DEPARTMENT OF HOUSING AND URBAN DEVELOPMENT

[Docket No. FR-4809-N-08]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Shirley Kramer, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Ms. Julie Jones-Conte, Department of the Army, Office of the Assistant Chief of Staff for Installation Management, Attn: DAIM-MD, Room 1E677, 600 Army Pentagon, Washington, DC 20310-600; (703) 692-9223; DOT: Mr. Rugene Spruill, DOT Headquarters Project Team, Department of Transportation, 400 7th Street, SW., Room 10314, Washington, DC 20590; (202) 366-4246; ENERGY: Mr. Tom Knox, Department of Energy, Office of Engineering & Construction Management, CR-80, Washington, DC 20585; (202) 586-8715; GSA: Mr. Brian K. Polly, Assistant Commissioner, General Services Administration, Office of Property Disposal, 18th and F Streets, NW., Washington, DC 20405; (202) 501-0052; NAVY: Mr. Charles C. Cocks, Director, Department of the Navy, Real Estate Policy Division, Naval Facilities Engineering Command, Washington Navy Yard, 1322 Patterson Ave., SE., Suite 1000, Washington, DC 20374-5065; (202) 685-9200; VA: Ms. Amelia E. McLellan, Director, Real Property Service (183C), Department of Veterans Affairs, 810 Vermont Avenue, NW., Room 419, Washington, DC 20420; (202) 565-5941; (These are not toll-free numbers).

Dated: February 13, 2003.
John D. Garrity,
Director, Office of Special Needs Assistance Programs.

Title V, Federal Surplus Property Program Federal Register Report for 2/21/03

Suitable/Available Properties

Buildings (by State)

California

Fed. Bldg./Post Office

1125 I Street

Modesto Co: CA 95354-

Landholding Agency: GSA

Property Number: 54200310010

Status: Excess

Comment: 23,770 sq. ft., presence of asbestos/lead paint, controlled access, Federal tenants occupy portion of bldg., National Register of Historic Places

GSA Number: 9-G-CA-1576

Bldg. 371

Naval Warfare Systems Center

San Diego Co: CA 92152-

Landholding Agency: Navy

Property Number: 77200020080

Status: Unutilized

Comment: 29,800 sq. ft., needs rehab, presence of asbestos/lead paint, off-site use only

Bldg. 402

Naval Warfare Systems Center

San Diego Co: CA 92152-

Landholding Agency: Navy

Property Number: 77200020081

Status: Unutilized

Comment: presence of lead paint, most recent use—storage, off-site use only

Bldg. 417

Naval Warfare Systems Center

San Diego Co: CA 92152-

Landholding Agency: Navy

Property Number: 77200020082

Status: Unutilized

Comment: 110 TR, needs rehab, presence of asbestos/lead paint, off-site use only

Bldg. 418

Naval Warfare Systems Center

San Diego Co: CA 92152-

Landholding Agency: Navy

Property Number: 77200020083

Status: Unutilized

Comment: 288 sq. ft., presence of lead paint, most recent use—storage, off-site use only

Bldg. 426

Naval Warfare Systems Center

San Diego Co: CA 92152-

Landholding Agency: Navy

Property Number: 77200020084

Status: Unutilized

Comment: presence of asbestos/lead paint, off-site use only

Bldg. 434

Naval Warfare Systems Center

San Diego Co: CA 92152-

Landholding Agency: Navy

Property Number: 77200020085

Status: Unutilized

Comment: 11,440 sq. ft., needs rehab, presence of asbestos/lead paint, off-site use only

Bldg. 210

Naval Warfare Assessment Station

Corona Co: CA 91718-5000

Landholding Agency: Navy

Property Number: 77200020086

Status: Unutilized

Comment: 17,708 sq. ft., needs rehab, presence of asbestos/lead paint, most recent use—police station, off-site use only

Bldg. 541

Naval Warfare Assessment Station

Corona Co: CA 91718-5000

Landholding Agency: Navy

Property Number: 77200020087

Status: Unutilized

Comment: 3857 sq. ft., needs rehab, presence of asbestos/lead paint, most recent use—lab, off-site use only

Bldg. 804

Naval Warfare Assessment Station

Corona Co: CA 91718-5000

Landholding Agency: Navy

Property Number: 77200020088

Status: Unutilized

Comment: 3119 sq. ft., needs rehab, presence of asbestos/lead paint, most recent use—admin., off-site use only

Bldg. 805

Naval Warfare Assessment Station

Corona Co: CA 91718-5000

Landholding Agency: Navy

Property Number: 77200020089

Status: Unutilized

Comment: 3732 sq. ft., needs rehab, presence of asbestos/lead paint, most recent use—storage, off-site use only

Bldg. 806

Naval Warfare Assessment Station

Corona Co: CA 91718-5000

Landholding Agency: Navy

Property Number: 77200020090

Status: Unutilized

Comment: 3110 sq. ft., needs rehab, presence of asbestos/lead paint, most recent use—office, off-site use only

Bldg. 807

Naval Warfare Assessment Station

Corona Co: CA 91718-5000

Landholding Agency: Navy

Property Number: 77200020091

Status: Unutilized

Comment: 3110 sq. ft., needs rehab, presence of asbestos/lead paint, most recent use—office, off-site use only

Bldgs. 23027, 23025

Marine Corps Air Station

Miramar Co: San Diego CA 92132-

Landholding Agency: Navy

Property Number: 77200040023

Status: Unutilized

Comment: 400 sq. ft., metal siding, most recent use—loading facility, off-site use only

Bldg. 01290

Naval Air Weapons Station

China Lake Co: CA 93555-6100

Landholding Agency: Navy

Property Number: 77200120090

Status: Excess

Comment: 460 sq. ft., most recent use—garage, off-site use only

Bldg. 02453

Naval Air Weapons Station

China Lake Co: CA 93555-6001

Landholding Agency: Navy

Property Number: 77200120110

Status: Excess

Comment: 48 sq. ft., most recent use—storage locker, off-site use only

Bldg. 32027

Naval Air Weapons Station

China Lake Co: CA 93555-6001

Landholding Agency: Navy

Property Number: 77200120111

Status: Excess

Comment: 331 sq. ft., off-site use only

Bldg. 32534

Naval Air Weapons Station

China Lake Co: CA 93555-6001

Landholding Agency: Navy

Property Number: 77200120112

Status: Excess

Comment: 2252 sq. ft., most recent use—repair shop, off-site use only

Bldg. 32537

Naval Air Weapons Station

China Lake Co: CA 93444-6001

Landholding Agency: Navy

Property Number: 77200120113

Status: Excess

Comment: most recent use—instrument bldg., off-site use only

Playgrounds

Marine Corps Logistics Base

Desert View

Barstow Co: San Bernardino CA 92311-

Landholding Agency: Navy

Property Number: 77200230018

Status: Underutilized

Comment: 2 playgrounds with personnel shelter, off-site use only

Garages

Marine Corps Logistics Base

Desert View

Barstow Co: San Bernardino CA 92311-

Landholding Agency: Navy

Property Number: 77200230019

Status: Underutilized

Comment: sq. ft. varies, needs rehab, possible asbestos/lead paint, off-site use only

76 Structures

Marine Corps Logistics Base

Desert View

Barstow Co: San Bernardino CA 92311-

Landholding Agency: Navy

Property Number: 77200230020

Status: Underutilized

Comment: sq. ft. varies, needs rehab, possible asbestos/lead paint, most recent use—housing, off-site use only

Connecticut

Bldgs. 2, 108, 440

Naval Submarine Base

Groton Co: New London CT 06349-

Landholding Agency: Navy

Property Number: 77200210095

Status: Unutilized

Comment: various sq. ft., need rehab, presence of asbestos/lead paint, most recent use—office/store/club, off-site use only

Bldg. 516

Naval Submarine Base

Groton Co: New London CT 06349-

Landholding Agency: Navy

Property Number: 77200230037

Status: Excess

Comment: 1450 sq. ft., needs rehab, possible asbestos, off-site use only

Hawaii

Bldg. 442, Naval Station

Ford Island

Pearl Harbor Co: Honolulu HI 96860-

Landholding Agency: Navy

Property Number: 77199630088

Status: Excess

Comment: 192 sq. ft., most recent use—storage, off-site use only

Bldg. S180

Naval Station, Ford Island

Pearl Harbor Co: Honolulu HI 96860-

Landholding Agency: Navy

Property Number: 77199640039

Status: Unutilized

Comment: 3412 sq. ft., 2-story, most recent use—bomb shelter, off-site use only, relocation may not be feasible

Bldg. S181

Naval Station, Ford Island

Pearl Harbor Co: Honolulu HI 96860-

Landholding Agency: Navy

Property Number: 77199640040

Status: Unutilized

Comment: 4258 sq. ft., 1-story, most recent use—bomb shelter, off-site use only, relocation may not be feasible

Bldg. 219

Naval Station, Ford Island

Pearl Harbor Co: Honolulu HI 96860-

Landholding Agency: Navy

Property Number: 77199640041

Status: Unutilized

Comment: 620 sq. ft., most recent use—damage control, off-site use only, relocation may not be feasible

Bldg. 220

Naval Station, Ford Island

Pearl Harbor Co: Honolulu HI 96860-

Landholding Agency: Navy

Property Number: 77199640042

Status: Unutilized

Comment: 620 sq. ft., most recent use—damage control, off-site use only, relocation may not be feasible

Indiana

Federal Building

610 Connecticut Street

Gary Co: IN 46402-

Landholding Agency: GSA

Property Number: 54200310011

Status: Excess

Comment: 30,478 sq. ft., needs repair, presence of asbestos, most recent use—office

GSA Number: 1-G-IN-591

Bldg. 1

N. Indiana Health Care System

Marion Co: Grant IN 46952-

Landholding Agency: VA

Property Number: 97200310001

Status: Unutilized

Comment: 20,287 sq. ft., needs extensive repairs, presence of asbestos, most recent use—patient ward

Bldg. 3

N. Indiana Health Care System

Marion Co: Grant IN 46952-

Landholding Agency: VA

Property Number: 97200310002

Status: Unutilized

Comment: 20,550 sq. ft., needs extensive repairs, presence of asbestos, most recent use—patient ward

Bldg. 4

N. Indiana Health Care System

Marion Co: Grant IN 46952-

Landholding Agency: VA

Property Number: 97200310003

Status: Unutilized

Comment: 20,550 sq. ft., needs extensive repairs, presence of asbestos, most recent use—patient ward

Bldg. 13

N. Indiana Health Care System

Marion Co: Grant IN 46952-

Landholding Agency: VA

Property Number: 97200310004

Status: Unutilized

Comment: 8971 sq. ft., needs extensive repairs, presence of asbestos, most recent use—office

Bldg. 19

N. Indiana Health Care System

Marion Co: Grant IN 46952-

Landholding Agency: VA

Property Number: 97200310005

Status: Unutilized

Comment: 12,237 sq. ft., needs extensive repairs, presence of asbestos, most recent use—office

Bldg. 20

N. Indiana Health Care System

Marion Co: Grant IN 46952-

Landholding Agency: VA

Property Number: 97200310006

Status: Unutilized

Comment: 14,039 sq. ft., needs extensive repairs, presence of asbestos, most recent use—office/storage

Bldg. 42

N. Indiana Health Care System

Marion Co: Grant IN 46952-

Landholding Agency: VA

Property Number: 97200310007

Status: Unutilized

Comment: 5025 sq. ft., needs extensive repairs, presence of asbestos, most recent use—office

Bldg. 60

N. Indiana Health Care System

Marion Co: Grant IN 46952-

Landholding Agency: VA

Property Number: 97200310008

Status: Unutilized

Comment: 18,126 sq. ft., needs extensive repairs, presence of asbestos, most recent use—office

Bldg. 122

N. Indiana Health Care System

Marion Co: Grant IN 46952-

Landholding Agency: VA

Property Number: 97200310009

Status: Unutilized

Comment: 37,135 sq. ft., needs extensive repairs, presence of asbestos, most recent use—dining hall/kitchen

Maryland

Bldg. 139

Naval Surface Warfare Center

Carderock Division

West Bethesda Co: Montgomery MD 20817-5700

Landholding Agency: Navy

Property Number: 77200010032

Status: Unutilized

Comment: 4950 sq. ft., possible asbestos/lead paint, most recent use—wind tunnel, off-site use only

Bldg. 104

Naval Surface Warfare

Carderock Division

West Bethesda Co: Montgomery MD 20817-5700

Landholding Agency: Navy

Property Number: 77200120079

Status: Unutilized

Comment: 8050 sq. ft., most recent use—garage, off-site use only

Bldg. 109

Naval Surface Warfare

West Bethesda Co: Montgomery MD 20817-5000

Landholding Agency: Navy

Property Number: 77200120080

Status: Unutilized

Comment: 9650 sq. ft., needs rehab, possible asbestos/lead paint, most recent use—storage, off-site use only

Bldg. 110

Naval Surface Warfare

West Bethesda Co: Montgomery MD 20817-5700

Landholding Agency: Navy

Property Number: 77200120081

Status: Unutilized

Comment: 10,750 sq. ft., needs rehab, presence of asbestos/lead paint, most recent use—storage, off-site use only

Bldg. 111

Naval Surface Warfare

West Bethesda Co: Montgomery MD 20817-5700

Landholding Agency: Navy

Property Number: 77200120082

Status: Unutilized

Comment: 4220 sq. ft., most recent use—office, off-site use only

Bldg. 112

Naval Surface Warfare

West Bethesda Co: Montgomery MD 20817-5700

Landholding Agency: Navy

Property Number: 77200120083

Status: Unutilized

Comment: 2440 sq. ft., most recent use—printing bldg., off-site use only

Bldg. 113

Naval Surface Warfare

West Bethesda Co: Montgomery MD 20817-5700

Landholding Agency: Navy

Property Number: 77200120084

Status: Unutilized

Comment: 2440 sq. ft., most recent use—lab, off-site use only

Bldg. 143

Naval Surface Warfare

West Bethesda Co: Montgomery, MD 20817-5700

Landholding Agency: Navy

Property Number: 77200120085

Status: Unutilized

Comment: 16,950 sq. ft., needs rehab, presence of asbestos/lead paint, most recent use—storage, off-site use only

Bldg. 152

Naval Surface Warfare

West Bethesda Co: Montgomery MD 20817-5700

Landholding Agency: Navy

Property Number: 77200120086

Status: Unutilized

Comment: 1400 sq. ft., most recent use—fire house annex, off-site use only

Bldg. 159

Naval Surface Warfare

West Bethesda Co: Montgomery MD 20817-5700

Landholding Agency: Navy

Property Number: 77200120087

Status: Unutilized

Comment: 605 sq. ft., needs rehab, presence of asbestos/lead paint, most recent use—hazardous waste storage, off-site use only

Bldg. 187

Naval Surface Warfare

West Bethesda Co: Montgomery MD 20817-5700

Landholding Agency: Navy

Property Number: 77200120088

Status: Unutilized

Comment: 768 sq. ft., most recent use—pump house, off-site use only

Bldg. 117

Naval Surface Warfare Center

Carderock Division

West Bethesda Co: Montgomery MD 20817-5700

Landholding Agency: Navy

Property Number: 77200120102

Status: Unutilized

Comment: 400 sq. ft., needs rehab, most recent use—storage, off-site use only

Bldg. 196

Naval Surface Warfare Center

Carderock Division

West Bethesda Co: Montgomery MD 20817-5700

Landholding Agency: Navy

Property Number: 77200120106

Status: Unutilized

Comment: 456 sq. ft., needs rehab, most recent use—destructor bldg., off-site use only

9 Housing Units

U.S. Naval Station

Annapolis Co: Anne Arundel MD 21402-

Landholding Agency: Navy

Property Number: 77200240005

Status: Excess

Comment: size varies, brick veneer wood frame on slab, off-site use only

New Hampshire

Bldg. 239

Portsmouth Naval Shipyard

Portsmouth Co: NH 03804-5000

Landholding Agency: Navy

Property Number: 77200030019

Status: Excess

Comment: 897 sq. ft., presence of asbestos/lead paint, off-site use only

New York

5 Bldgs.

Orangeburg USARC

#206, 207, 208, 218, 223

Orangeburg Co: Rockland NY 10962-2209

Landholding Agency: Army

Property Number: 21200310061

Status: Unutilized

Comment: various sq. ft., need major repairs, presence of lead paint, most recent use—admin/storage, off-site use only

Hancock Army Complex

Track 4

Stewart Drive West

Cicero Co: Onondaga NY 13039-

Landholding Agency: GSA

Property Number: 54200310013

Status: Excess

Comment: 3 bunker-style structures and several small outbuildings, presence of asbestos, possible lead paint, most recent use—admin/training/storage

GSA Number : 1-D-NY-803

Pennsylvania

Bldg. 216

Naval Support Activity

Mechanicsburg Co: Cumberland PA 17055-0788

Landholding Agency: Navy

Property Number: 77200220008

Status: Excess

Comment: 121,604 sq. ft., needs rehab, presence of asbestos/lead paint, most recent use—office, off-site use only

Bldg. 504B

Naval Support Activity

Mechanicsburg Co: Cumberland PA 17055-0788

Landholding Agency: Navy

Property Number: 77200220009

Status: Excess

Comment: 4824 sq. ft., needs rehab, presence of asbestos/lead paint, most recent use—training, off-site use only

Bldg. 608D

Naval Support Activity

Mechanicsburg Co: Cumberland PA 17055-0788

Landholding Agency: Navy

Property Number: 77200220010

Status: Excess

Comment: 8400 sq. ft., needs rehab, presence of asbestos/lead paint, most recent use—storage, off-site use only

Bldg. 609B

Naval Support Activity

Mechanicsburg Co: Cumberland PA 17055-0788

Landholding Agency: Navy

Property Number: 77200220011

Status: Excess

Comment: 2100 sq. ft., needs rehab, presence of asbestos/lead paint, most recent use—storage, off-site use only

Bldg. 611

Naval Support Activity

Mechanicsburg Co: Cumberland PA 17055-0788

Landholding Agency: Navy

Property Number: 77200220012

Status: Excess

Comment: 425 sq. ft. concrete, presence of asbestos/lead paint, most recent use—storage, off-site use only

Bldg. 616

Naval Support Activity

Mechanicsburg Co: Cumberland PA 17055-0788

Landholding Agency: Navy

Property Number: 77200220013

Status: Excess

Comment: 216 sq. ft., needs rehab, presence of asbestos/lead paint, most recent use—storage, off-site use only

Rhode Island

Bldg. 8

Naval Ambulatory Care

Newport Co: RI 02841-

Landholding Agency: Navy

Property Number: 77200220017

Status: Unutilized

Comment: 2800 sq. ft., poor condition, possible asbestos/lead paint, most recent use—storage, meets Nat. Register criterion, off-site use only

Bldg. 30

Naval Ambulatory Care

Newport Co: RI 02841-

Landholding Agency: Navy

Property Number: 77200220018

Status: Unutilized

Comment: 150 sq. ft., poor condition, most recent use—switch house, off-site use only

Bldg. 46

Naval Ambulatory Care

Newport Co: RI 02841-

Landholding Agency: Navy

Property Number: 77200220019

Status: Unutilized

Comment: 3690 sq. ft., poor condition, possible asbestos/lead paint, most recent use—office, off-site use only

Bldg. 53

Naval Ambulatory Care

Newport Co: RI 02841-

Landholding Agency: Navy

Property Number: 77200220020

Status: Unutilized

Comment: 2691 sq. ft., poor condition, possible asbestos/lead paint, most recent use—garage/office, off-site use only

Bldg. 55

Naval Ambulatory Care

Newport Co: RI 02841-

Landholding Agency: Navy

Property Number: 77200220021

Status: Unutilized

Comment: 135 sq. ft., poor condition, most recent use—storage, off-site use only

Virginia

Structure SP-129

Naval Station

Norfolk Co: VA 23511-

Landholding Agency: Navy

Property Number: 77200110136

Status: Excess

Comment: 3564 sq. ft., presence of asbestos/lead, most recent use—office, off-site use only

Bldg. 106 (G)

Naval Station

Lafayette River Annex

Norfolk Co: VA

Landholding Agency: Navy

Property Number: 77200220046

Status: Excess

Comment: 2767 sq. ft. garage, most recent use—storage, off-site use only

Bldg. CEP-184

Naval Station

Norfolk Co: VA

Landholding Agency: Navy

Property Number: 77200220047

Status: Excess

Comment: 200 sq. ft., most recent use—gate/sentry house, off-site use only

Land (by State)

California

Portion of Land

Naval Base, Point Loma

Murphy Canyon

San Diego Co: CA 92124-

Landholding Agency: Navy

Property Number: 77200140012

Status: Unutilized

Comment: 24,350 sq. ft. of parking lot, adjacent to environmentally sensitive area

Virginia

Land

Marine Corps Base

Quantico Co: VA 22134-

Landholding Agency: Navy

Property Number: 77200040034

Status: Unutilized

Comment: 4900 sq. ft. open space

Suitable/Unavailable Properties

Buildings (by State)

Virginia

Naval Medical Clinic

6500 Hampton Blvd.

Norfolk Co: Norfolk VA 23508-

Landholding Agency: Navy

Property Number: 77199010109

Status: Unutilized

Comment: 3665 sq ft., 1 story, possible asbestos, most recent use—laundry.

Land (by State)

Virginia

Naval Base

Norfolk Co: Norfolk VA 23508-

Location: Northeast corner of base, near Willoughby housing area.

Landholding Agency: Navy

Property Number: 77199010156

Status: Unutilized

Comment: 60 acres; most recent use—sandpit; secured area with alternate access

.

2.6 acres

Naval Station

Norfolk Co: VA 23508-1273

Landholding Agency: Navy

Property Number: 77200120131

Status: Underutilized

Comment: most recent use—brush/debris storage

1.15 acres

Naval Amphibious Base Little Creek

Norfolk Co: VA 23508-

Landholding Agency: Navy

Property Number: 77200120132

Status: Unutilized

Comment: most recent use—open space

Suitable/To Be Excessed

Buildings (by State)

Massachusetts

Cuttyhunk Boathouse

South Shore of Cuttyhunk Pond

Gosnold Co: Dukes MA 02713-

Landholding Agency: DOT

Property Number: 87199310001

Status: Unutilized

Comment: 2700 sq. ft., wood frame, one story, needs rehab, limited utilities, off-site use only

Nauset Beach Light

Nauset Beach Co: Barnstable MA

Landholding Agency: DOT

Property Number: 87199420001

Status: Unutilized

Comment: 48 foot tower, cylindrical cast iron, most recent use—aid to navigation

Light Tower, Highland Light

Near Rt. 6, 9 miles south of Race Point

North Truro Co: Barnstable MA 02652-

Landholding Agency: DOT

Property Number: 87199430005

Status: Excess

Comment: 66 ft. tower, 14′9″ diameter, brick structure, scheduled to be vacated 9/94

Keepers Dwelling

Highland Light

Near Rt. 6, 9 miles south of Race Point

North Truro Co: Barnstable MA 02652-

Landholding Agency: DOT

Property Number: 87199430006

Status: Excess

Comment: 1160 sq. ft., 2-story wood frame, attached to light tower, scheduled to be vacated 9/94

Duplex Housing Unit

Highland Light

Near Rt. 6, 9 miles south of Race Point

North Truro Co: Barnstable MA 02652-

Landholding Agency: DOT

Property Number: 87199430007

Status: Excess

Comment: 2 living units, 930 sq. ft. each, 1-story each, located on eroding ocean bluff, scheduled to be vacated 9/94

Nahant Towers

Nahant Co: Essex MA

Landholding Agency: DOT

Property Number: 87199530001

Status: Unutilized

Comment: 196 sq. ft., 8-story observation tower

Unsuitable Properties

Buildings (by State)

Alabama

Dwelling A

USCG Mobile Pt. Station

Ft. Morgan

Gulfshores Co: Baldwin AL 36542-

Landholding Agency: DOT

Property Number: 87199120001

Status: Excess

Reason: Floodway

Dwelling B

USCG Mobile Pt. Station

Ft. Morgan

Gulfshores Co: Baldwin AL 36542-

Landholding Agency: DOT

Property Number: 87199120002

Status: Excess

Reason: Floodway

Oil House

USCG Mobile Pt. Station

Ft. Morgan

Gulfshores Co: Baldwin AL 36542-

Landholding Agency: DOT

Property Number: 87199120003

Status: Excess

Reason: Floodway

Garage

USCG Mobile Pt. Station

Ft. Morgan

Gulfshores Co: Baldwin AL 36542-

Landholding Agency: DOT

Property Number: 87199120004

Status: Excess

Reason: Floodway

Shop Building

USCG Mobile Pt. Station

Ft. Morgan

Gulfshores Co: Baldwin AL 36542-

Landholding Agency: DOT

Property Number: 87199120005

Status: Excess

Reason: Floodway

Alaska

Bldg. B001

Point Higgins

Ketchikan Co: AK 99901-

Landholding Agency: DOT

Property Number: 87200140003

Status: Excess

Reasons: Secured Area; Extensive deterioration

Bldg. B002

Point Higgins

Ketchikan Co: AK 99901-

Landholding Agency: DOT

Property Number: 87200140004

Status: Excess

Reasons: Secured Area; Extensive deterioration

Bldg. B003

Point Higgins

Ketchikan Co: AK 99901-

Landholding Agency: DOT

Property Number: 87200140005

Status: Excess

Reasons: Secured Area; Extensive deterioration

Bldg. B004

Point Higgins

Ketchikan Co: AK 99901-

Landholding Agency: DOT

Property Number: 87200140006

Status: Excess

Reason: Secured Area

Bldg. B006

Point Higgins

Ketchikan Co: AK 99901-

Landholding Agency: DOT

Property Number: 87200140007

Status: Excess

Reasons: Secured Area; Extensive deterioration

Bldg. B008

Point Higgins

Ketchikan Co: AK 99901-

Landholding Agency: DOT

Property Number: 87200140008

Status: Excess

Reasons: Secured Area; Extensive deterioration

Bldg. B009

Point Higgins

Ketchikan Co: AK 99901-

Landholding Agency: DOT

Property Number: 87200140009

Status: Excess

Reasons: Secured Area; Extensive deterioration

Bldg. B011

Point Higgins

Ketchikan Co: AK 99901-

Landholding Agency: DOT

Property Number: 87200140010

Status: Excess

Reasons: Secured Area; Extensive deterioration

Bldg. B012

Point Higgins

Ketchikan Co: AK 99901-

Landholding Agency: DOT

Property Number: 87200140011

Status: Excess

Reasons: Secured Area; Extensive deterioration

Bldg. B000

Point Higgins

Ketchikan Co: AK 99901-

Landholding Agency: DOT

Property Number: 87200140012

Status: Excess

Reason: Extensive deterioration

Arizona

Bldg. 958

Marine Corps Air Station

Yuma Co: AZ 85369-

Landholding Agency: Navy

Property Number: 77200040001

Status: Excess

Reason: Extensive deterioration

Bldg. 1216

Marine Corps Air Station

Yuma Co: AZ 85369-

Landholding Agency: Navy

Property Number: 77200040002

Status: Excess

Reason: Extensive deterioration

Bldg. 676

Marine Corps Air Station

Yuma Co: AZ 85369-

Landholding Agency: Navy

Property Number: 77200040003

Status: Excess

Reason: Extensive deterioration

Bldg. 321

Marine Corps Air Station

Yuma Co: AZ 85369-

Landholding Agency: Navy

Property Number: 77200110001

Status: Excess

Reason: Extensive deterioration

Bldg. 322

Marine Corps Air Station

Yuma Co: AZ 85369-

Landholding Agency: Navy

Property Number: 77200110002

Status: Excess

Reason: Extensive deterioration

Bldg. 331

Marine Corps Air Station

Yuma Co: AZ 85369-

Landholding Agency: Navy

Property Number: 77200110003

Status: Excess

Reason: Extensive deterioration

Bldg. 332

Marine Corps Air Station

Yuma Co: AZ 85369-

Landholding Agency: Navy

Property Number: 77200110004

Status: Excess

Reason: Extensive deterioration

California

Bldgs. 20106, 20195

Naval Air Weapons Station

China Lake Co: CA 93555-

Landholding Agency: Navy

Property Number: 77199930001

Status: Excess

Reasons: Secured Area; Extensive deterioration

Bldgs. 40, 62

Naval Air Station, North Island

Imperial Beach Co: CA 91932-

Landholding Agency: Navy

Property Number: 77199930024

Status: Excess

Reason: Extensive deterioration

Bldg. 5UT4

Marine Corps Recruit Depot

San Diego Co: CA 92140-

Landholding Agency: Navy

Property Number: 77199930081

Status: Unutilized

Reason: Extensive deterioration

Bldg. 5US4

Marine Corps Recruit Depot

San Diego Co: CA 92140-

Landholding Agency: Navy

Property Number: 77199930082

Status: Unutilized

Reason: Extensive deterioration

Bldg. 127

Marine Corps Recruit Depot

San Diego Co: CA 92140-

Landholding Agency: Navy

Property Number: 77199930083

Status: Unutilized

Reason: Extensive deterioration

Bldg. 5A6

Marine Corps Recruit Depot

San Diego Co: CA 92140-

Landholding Agency: Navy

Property Number: 77199930084

Status: Unutilized

Reason: Extensive deterioration

Bldg. 5A7

Marine Corps Recruit Depot

San Diego Co: CA 92140-

Landholding Agency: Navy

Property Number: 77199930085

Status: Unutilized

Reason: Extensive deterioration

Bldg. 5A8

Marine Corps Recruit Depot

San Diego Co: CA 92140-

Landholding Agency: Navy

Property Number: 77199930086

Status: Unutilized

Reason: Extensive deterioration

Bldg. 5A9

Marine Corps Recruit Depot

San Diego Co: CA 92140-

Landholding Agency: Navy

Property Number: 77199930087

Status: Unutilized

Reason: Extensive deterioration

Bldg. 5B6

Marine Corps Recruit Depot

San Diego Co: CA 92140-

Landholding Agency: Navy

Property Number: 77199930088

Status: Unutilized

Reason: Extensive deterioration

Bldg. 5B7

Marine Corps Recruit Depot

San Diego Co: CA 92140-

Landholding Agency: Navy

Property Number: 77199930089

Status: Unutilized

Reason: Extensive deterioration

Bldg. 5B8

Marine Corps Recruit Depot

San Diego Co: CA 92140-

Landholding Agency: Navy

Property Number: 77199930090

Status: Unutilized

Reason: Extensive deterioration

Bldg. 5B9

Marine Corps Recruit Depot

San Diego Co: CA 92140-

Landholding Agency: Navy

Property Number: 77199930091

Status: Unutilized

Reason: Extensive deterioration

Bldg. 5C6

Marine Corps Recruit Depot

San Diego Co: CA 92140-

Landholding Agency: Navy

Property Number: 77199930092

Status: Unutilized

Reason: Extensive deterioration

Bldg. 5C7

Marine Corps Recruit Depot

San Diego Co: CA 92140-

Landholding Agency: Navy

Property Number: 77199930093

Status: Unutilized

Reason: Extensive deterioration

Bldg. 5C8

Marine Corps Recruit Depot

San Diego Co: CA 92140-

Landholding Agency: Navy

Property Number: 77199930094

Status: Unutilized

Reason: Extensive deterioration

Bldg. 5C9

Marine Corps Recruit Depot

San Diego Co: CA 92140-

Landholding Agency: Navy

Property Number: 77199930095

Status: Unutilized

Reason: Extensive deterioration

Bldg. 5D1

Marine Corps Recruit Depot

San Diego Co: CA 92140-

Landholding Agency: Navy

Property Number: 77199930096

Status: Unutilized

Reason: Extensive deterioration

Bldg. 5D2

Marine Corps Recruit Depot

San Diego Co: CA 92140-

Landholding Agency: Navy

Property Number: 77199930097

Status: Unutilized

Reason: Extensive deterioration

Bldg. 5D3

Marine Corps Recruit Depot

San Diego Co: CA 92140-

Landholding Agency: Navy

Property Number: 77199930098

Status: Unutilized

Reason: Extensive deterioration

Bldg. 5D4

Marine Corps Recruit Depot

San Diego Co: CA 92140-

Landholding Agency: Navy

Property Number: 77199930099

Status: Unutilized

Reason: Extensive deterioration

Bldg. 5D5

Marine Corps Recruit Depot

San Diego Co: CA 92140-

Landholding Agency: Navy

Property Number: 77199930100

Status: Unutilized

Reason: Extensive deterioration

Bldg. 432

Naval Weapons Station Seal Beach

Seal Beach Co: CA 90740-5000

Landholding Agency: Navy

Property Number: 77199930106

Status: Unutilized

Reason: Extensive deterioration

Bldg. 433

Naval Weapons Station Seal Beach

Seal Beach Co: CA 90740-5000

Landholding Agency: Navy

Property Number: 77199930107

Status: Unutilized

Reason: Extensive deterioration

Bldg. 435

Naval Weapons Station Seal Beach

Seal Beach Co: CA 90740-5000

Landholding Agency: Navy

Property Number: 77199930108

Status: Unutilized

Reason: Extensive deterioration

Bldg. 456

Naval Weapons Station Seal Beach

Seal Beach Co: CA 90740-5000

Landholding Agency: Navy

Property Number: 77199930109

Status: Unutilized

Reason: Extensive deterioration

Bldg. 921

Naval Weapons Station Seal Beach

Seal Beach Co: CA 90740-5000

Landholding Agency: Navy

Property Number: 77199930110

Status: Unutilized

Reason: Extensive deterioration

Bldg. 201

Naval Weapons Station

Fallbrook Co: CA 92028-3187

Landholding Agency: Navy

Property Number: 77199940002

Status: Unutilized

Reason: Extensive deterioration

Bldg. 205

Naval Weapons Station

Fallbrook Co: CA 92028-3187

Landholding Agency: Navy

Property Number: 77199940003

Status: Unutilized

Reason: Extensive deterioration

Bldg. 227

Naval Weapons Station

Fallbrook Co: CA 92028-3187

Landholding Agency: Navy

Property Number: 77199940004

Status: Unutilized

Reason: Extensive deterioration

Bldg. 230

Naval Weapons Station

Fallbrook Co: CA 92028-3187

Landholding Agency: Navy

Property Number: 77199940005

Status: Unutilized

Reason: Extensive deterioration

Bldg. 232

Naval Weapons Station

Fallbrook Co: CA 92028-3187

Landholding Agency: Navy

Property Number: 77199940006

Status: Unutilized

Reason: Extensive deterioration

Bldg. 337

Naval Weapons Station

Fallbrook Co: CA 92028-3187

Landholding Agency: Navy

Property Number: 77199940007

Status: Unutilized

Reason: Extensive deterioration

Bldg. 338

Naval Weapons Station

Fallbrook Co: CA 92028-3187

Landholding Agency: Navy

Property Number: 77199940008

Status: Unutilized

Reason: Extensive deterioration

Bldg. 339

Naval Weapons Station

Fallbrook Co: CA 92028-3187

Landholding Agency: Navy

Property Number: 77199940009

Status: Unutilized

Reason: Extensive deterioration

Bldg. 349

Naval Weapons Station

Fallbrook Co: CA 92028-3187

Landholding Agency: Navy

Property Number: 77199940010

Status: Unutilized

Reason: Extensive deterioration

Bldg. 362

Naval Weapons Station

Fallbrook Co: CA 92028-3187

Landholding Agency: Navy

Property Number: 77199940011

Status: Unutilized

Reason: Extensive deterioration

Bldg. 363

Naval Weapons Station

Fallbrook Co: CA 92028-3187

Landholding Agency: Navy

Property Number: 77199940012

Status: Unutilized

Reason: Extensive deterioration

Bldg. 410

Naval Weapons Station

Fallbrook Co: CA 92028-3187

Landholding Agency: Navy

Property Number: 77199940013

Status: Unutilized

Reason: Extensive deterioration

Bldg. 438

Naval Weapons Station

Fallbrook Co: CA 92028-3187

Landholding Agency: Navy

Property Number: 77199940014

Status: Unutilized

Reason: Extensive deterioration

Bldg. 17A

Marine Corps Logistics Base

Barstow Co: San Bernardino CA 92311-

Landholding Agency: Navy

Property Number: 77200020001

Status: Unutilized

Reasons: Secured Area; Extensive deterioration

Bldg. 3314

Marine Corps Air Station

Miramar Co: CA 92145-

Landholding Agency: Navy

Property Number: 77200020035

Status: Excess

Reason: Extensive deterioration

Bldgs. 5157, 5158

Construction Battalion Center

Port Hueneme Co: Ventura CA 93043-4301

Landholding Agency: Navy

Property Number: 77200020045

Status: Unutilized

Reason: Secured Area

Facility 13181

Camp Pendleton

Camp Pendleton Co: CA 92055-

Landholding Agency: Navy

Property Number: 77200020046

Status: Unutilized

Reasons: Secured Area; Extensive deterioration

Facility 14220

Camp Pendleton

Camp Pendleton Co: CA 92055-

Landholding Agency: Navy

Property Number: 77200020047

Status: Unutilized

Reasons: Secured Area; Extensive deterioration

Bldg. 23025

Marine Corps Air Station

Miramar Co: CA 92132-

Landholding Agency: Navy

Property Number: 77200030001

Status: Unutilized

Reason: Secured Area

Bldg. 23027

Marine Corps Air Station

Miramar Co: CA 92132-

Landholding Agency: Navy

Property Number: 77200030002

Status: Unutilized

Reason: Secured Area

Bldg. 731

Naval Air Station

Point Mugu

Oxnard Co: Ventura CA 93043-4301

Landholding Agency: Navy

Property Number: 77200030003

Status: Excess

Reason: Extensive deterioration

Bldg. 731A

Naval Air Station

Point Mugu

Oxnard Co: Ventura CA 93043-4301

Landholding Agency: Navy

Property Number: 77200030004

Status: Excess

Reason: Extensive deterioration

Bldg. 865

Naval Air Station

Point Mugu

Oxnard Co: Ventura CA 93043-4301

Landholding Agency: Navy

Property Number: 77200030005

Status: Excess

Reason: Extensive deterioration

Bldg. 868

Naval Air Station

Point Mugu

Oxnard Co: Ventura CA 93043-4301

Landholding Agency: Navy

Property Number: 77200030006

Status: Excess

Reason: Extensive deterioration

Bldg. 474

Naval Const. Battalion Ctr

Port Hueneme

Oxnard Co: Ventura CA 93043-4301

Landholding Agency: Navy

Property Number: 77200030007

Status: Excess

Reason: Extensive deterioration

Bldg. 5021

Naval Const. Battalion Ctr

Port Hueneme

Oxnard Co: Ventura CA 93043-4301

Landholding Agency: Navy

Property Number: 77200030008

Status: Excess

Reason: Extensive deterioration

Bldg. 5022

Naval Const. Battalion Ctr

Port Hueneme

Oxnard Co: Ventura CA 93043-4301

Landholding Agency: Navy

Property Number: 77200030009

Status: Excess

Reason: Extensive deterioration

Bldg. 5025

Naval Const. Battalion Ctr

Port Hueneme

Oxnard Co: Ventura CA 93043-4301

Landholding Agency: Navy

Property Number: 77200030010

Status: Excess

Reason: Extensive deterioration

Bldg. 5113

Naval Const. Battalion Ctr

Port Hueneme

Oxnard Co: Ventura CA 93043-

Landholding Agency: Navy

Property Number: 77200030011

Status: Excess

Reason: Extensive deterioration

Bldg. 5114

Naval Const. Battalion Ctr

Port Hueneme

Oxnard Co: Ventura CA 93043-4301

Landholding Agency: Navy

Property Number: 77200030012

Status: Excess

Reason: Extensive deterioration

Bldgs. 82 & 84

Naval Air Station

Point Mugu

Oxnard Co: Ventura CA 93043-4301

Landholding Agency: Navy

Property Number: 77200030013

Status: Excess

Reason: Extensive deterioration

Bldg. 6-1

Naval Air Station

Point Mugu

Oxnard Co: Ventura CA 93043-4301

Landholding Agency: Navy

Property Number: 77200030014

Status: Excess

Reason: Extensive deterioration

Bldg. 479

Naval Construction Battalion Ctr.

Port Hueneme

Oxnard Co: Ventura CA 93043-4301

Landholding Agency: Navy

Property Number: 77200030015

Status: Excess

Reason: Extensive deterioration

Bldg. 1362

Marine Corps Base

Camp Pendleton Co: CA 92055-

Landholding Agency: Navy

Property Number: 77200030030

Status: Excess

Reason: Extensive deterioration

Bldg. 801

Naval Air Station

Point Mugu

Oxnard Co: Ventura CA 93042-5001

Landholding Agency: Navy

Property Number: 77200030043

Status: Unutilized

Reason: Extensive deterioration

Bldg. 41

Naval Const. Battalion Ctr

Port Hueneme Co: Ventura CA 93043-4301

Landholding Agency: Navy

Property Number: 77200030044

Status: Unutilized

Reason: Extensive deterioration

Bldg. 103

Naval Const. Battalion Ctr

Port Hueneme Co: Ventura CA 93043-4301

Landholding Agency: Navy

Property Number: 77200030045

Status: Unutilized

Reason: Extensive deterioration

Bldg. 259

Naval Const. Battalion Ctr

Port Hueneme Co: Ventura CA 93043-4301

Landholding Agency: Navy

Property Number: 77200030046

Status: Unutilized

Reason: Extensive deterioration

Bldg. 260

Naval Const. Battalion Ctr

Port Hueneme Co: CA 93043-4301

Landholding Agency: Navy

Property Number: 77200030047

Status: Unutilized

Reason: Extensive deterioration

Bldg. 274

Naval Const. Battalion Ctr

Port Hueneme Co: Ventura CA 93043-4301

Landholding Agency: Navy

Property Number: 77200030048

Status: Unutilized

Reason: Extensive deterioration

Bldg. 462

Naval Const. Battalion Ctr

Port Hueneme Co: Ventura CA 93043-4301

Landholding Agency: Navy

Property Number: 77200030049

Status: Unutilized

Reason: Extensive deterioration

Bldg. 488

Naval Const. Battalion Ctr

Port Hueneme Co: Ventura CA 93043-4301

Landholding Agency: Navy

Property Number: 77200030050

Status: Unutilized

Reason: Extensive deterioration

Bldg. 1150

Naval Const. Battalion Ctr

Port Hueneme Co: Ventura CA 93043-4301

Landholding Agency: Navy

Property Number: 77200030051

Status: Unutilized

Reason: Extensive deterioration

Bldg. 1156

Naval Const. Battalion Ctr

Port Hueneme Co: Ventura CA 93043-4301

Landholding Agency: Navy

Property Number: 77200030052

Status: Unutilized

Reason: Extensive deterioration

Bldg. 1275

Naval Const. Battalion Ctr

Port Hueneme Co: Ventura CA 93043-4301

Landholding Agency: Navy

Property Number: 77200030053

Status: Unutilized

Reason: Extensive deterioration

Bldg. 1321

Naval Const. Battalion Ctr

Port Hueneme Co: Ventura CA 93043-4301

Landholding Agency: Navy

Property Number: 77200030054

Status: Unutilized

Reason: Extensive deterioration

Bldg. 21091

Marine Corps Air Station

Miramar Co: San Diego CA 92132-

Landholding Agency: Navy

Property Number: 77200030058

Status: Unutilized

Reason: Extensive deterioration

Bldg. 21127

Marine Corps Air Station

Miramar Co: San Diego CA 92132-

Landholding Agency: Navy

Property Number: 77200030059

Status: Unutilized

Reason: Extensive deterioration

Bldg. 9919

Marine Corps Air Station

Miramar Co: San Diego CA 92132-

Landholding Agency: Navy

Property Number: 77200030060

Status: Unutilized

Reason: Extensive deterioration

Bldg. 1468

Naval Base Ventura on Parcel 1

Port Hueneme Co: Ventura CA 93042-5000

Landholding Agency: Navy

Property Number: 77200110013

Status: Unutilized

Reason: Secured Area

Bldg. 1469

Naval Base Ventura on Parcel 1

Port Hueneme Co: Ventura CA 93042-5000

Landholding Agency: Navy

Property Number: 77200110014

Status: Unutilized

Reason: Secured Area

Bldg. 12041

Naval Air Weapons Station

China Lake Co: CA 93555-6100

Landholding Agency: Navy

Property Number: 77200110065

Status: Excess

Reason: Extensive deterioration

Bldg. 12052

Naval Air Weapons Station

China Lake Co: CA 93555-6100

Landholding Agency: Navy

Property Number: 77200110066

Status: Excess

Reason: Extensive deterioration

Bldg. 16066

Naval Air Weapons Station

China Lake Co: CA 93555-6100

Landholding Agency: Navy

Property Number: 77200110067

Status: Excess

Reason: Extensive deterioration

Bldg. 16074

Naval Air Weapons Station

China Lake Co: CA 93555-6100

Landholding Agency: Navy

Property Number: 77200110068

Status: Excess

Reason: Extensive deterioration

Bldg. 16085

Naval Air Weapons Station

China Lake Co: CA 93555-6100

Landholding Agency: Navy

Property Number: 77200110069

Status: Excess

Reason: Extensive deterioration

Bldg. 16086

Naval Air Weapons Station

China Lake Co: CA 93555-6100

Landholding Agency: Navy

Property Number: 77200110070

Status: Excess

Reason: Extensive deterioration

Bldg. 16100

Naval Air Weapons Station

China Lake Co: CA 93555-6100

Landholding Agency: Navy

Property Number: 77200110071

Status: Excess

Reason: Extensive deterioration

Bldg. 16115

Naval Air Weapons Station

China Lake Co: CA 93555-6100

Landholding Agency: Navy

Property Number: 77200110072

Status: Excess

Reason: Extensive deterioration

Bldg. 16117

Naval Air Weapons Station

China Lake Co: CA 93555-6100

Landholding Agency: Navy

Property Number: 77200110073

Status: Excess

Reason: Extensive deterioration

Bldg. 467

Marine Corps Recruit Depot

San Diego Co: CA 92132-

Landholding Agency: Navy

Property Number: 77200110100

Status: Unutilized

Reason: Secured Area

Bldg. 121 SNI

Naval Air Weapons Station

China Lake Co: CA 93555-6100

Landholding Agency: Navy

Property Number: 77200120001

Status: Excess

Reason: Extensive deterioration

Bldg. 121A SNI

Naval Air Weapons Station

China Lake Co: CA 93555-6100

Landholding Agency: Navy

Property Number: 77200120002

Status: Excess

Reason: Extensive deterioration

Bldg. 121B SNI

Naval Air Weapons Station

China Lake Co: CA 93555-6100

Landholding Agency: Navy

Property Number: 77200120003

Status: Excess

Reason: Extensive deterioration

Bldg. 137 SNI

Naval Air Weapons Station

China Lake Co: CA 93555-6100

Landholding Agency: Navy

Property Number: 77200120004

Status: Excess

Reason: Extensive deterioration

Bldg. 223 SNI

Naval Air Weapons Station

China Lake Co: CA 93555-6100

Landholding Agency: Navy

Property Number: 77200120005

Status: Excess

Reason: Extensive deterioration

Bldg. 01289

Naval Air Weapons Station

China Lake Co: CA 93555-6100

Landholding Agency: Navy

Property Number: 77200120089

Status: Excess

Reason: Extensive deterioration

Bldg. PM1529

Point Mugu, Naval Base

Oxnard Co: Ventura CA 93042-5001

Landholding Agency: Navy

Property Number: 77200120094

Status: Unutilized

Reason: Extensive deterioration

Bldg. PM1606

Point Mugu, Naval Base

Oxnard Co: Ventura CA 93042-5001

Landholding Agency: Navy

Property Number: 77200120095

Status: Unutilized

Reason: Extensive deterioration

Bldg. 70140

Naval Air Weapons Station

China Lake Co: CA 93555-6100

Landholding Agency: Navy

Property Number: 77200120107

Status: Excess

Reason: Extensive deterioration

Bldg. 70141

Naval Air Weapons Station

China Lake Co: CA 93555-6100

Landholding Agency: Navy

Property Number: 77200120108

Status: Excess

Reason: Extensive deterioration

Bldg. 70143

Naval Air Weapons Station

China Lake Co: CA 93555-6100

Landholding Agency: Navy

Property Number: 77200120109

Status: Excess

Reason: Extensive deterioration

Bldg. 25062

Naval Air Weapons Station

China Lake Co: CA 93555-6001

Landholding Agency: Navy

Property Number: 77200120114

Status: Excess

Reason: Extensive deterioration

Bldg. 33023

Naval Air Weapons Station

China Lake Co: CA 93555-6001

Landholding Agency: Navy

Property Number: 77200120115

Status: Excess

Reason: Extensive deterioration

Bldg. 33054

Naval Air Weapons Station

China Lake Co: CA 93555-6001

Landholding Agency: Navy

Property Number: 77200120116

Status: Excess

Reason: Extensive deterioration

Bldg. 36

Marine Corps Logistics Base

Barstow Co: San Bernardino CA 92311-

Landholding Agency: Navy

Property Number: 77200130001

Status: Unutilized

Reason: Extensive deterioration

Bldgs. 60, 61, 64, 65

Marine Corps Logistics Base

Barstow Co: San Bernardino CA 92311-

Landholding Agency: Navy

Property Number: 77200130002

Status: Unutilized

Reason: Extensive deterioration

Bldg. 171

Marine Corps Logistics Base

Barstow Co: San Bernardino CA 92311-

Landholding Agency: Navy

Property Number: 77200130003

Status: Unutilized

Reason: Extensive deterioration

Bldg. 278

Marine Corps Logistics Base

Barstow Co: San Benardino CA 92311-

Landholding Agency: Navy

Property Number: 77200130004

Status: Unutilized

Reason: Extensive deterioration

Bldg. 351

Marine Corps Logistics Base

Barstow Co: San Bernardino CA 92311-

Landholding Agency: Navy

Property Number: 77200130005

Status: Unutilized

Reason: Extensive deterioration

Bldg. 130

Naval Station

San Diego Co: CA 92132-

Landholding Agency: Navy

Property Number: 77200130006

Status: Excess

Reason: Extensive deterioration

Bldg. 415

Naval Station

San Diego Co: CA 92132-

Landholding Agency: Navy

Property Number: 77200130007

Status: Excess

Reason: Extensive deterioration

Structure 20104

Naval Air Weapons Station

China Lake Co: CA 93555-6100

Landholding Agency: Navy

Property Number: 77200130008

Status: Excess

Reason: Extensive deterioration

Structure 31424

Naval Air Weapons Station

China Lake Co: CA 93555-6100

Landholding Agency: Navy

Property Number: 77200130009

Status: Excess

Reason: Extensive deterioration

Structure 31592

Naval Air Weapons Station

China Lake Co: CA 93555-6100

Landholding Agency: Navy

Property Number: 77200130010

Status: Excess

Reason: Extensive deterioration

Facility 26

Naval Weapons Station

Seal Beach Co: CA 90740-5000

Landholding Agency: Navy

Property Number: 77200130011

Status: Unutilized

Reason: Secured Area

Bldg. 114

Naval Air Facility

El Centro Co: Imperial CA 92243-

Landholding Agency: Navy

Property Number: 77200130016

Status: Unutilized

Reason: Extensive deterioration

Bldg. 375

Naval Air Facility

El Centro Co: Imperial CA 92243-

Landholding Agency: Navy

Property Number: 77200130017

Status: Unutilized

Reason: Extensive deterioration

Bldg. 376

Naval Air Facility

El Centro Co: Imperial CA 92243-

Landholding Agency: Navy

Property Number: 77200130018

Status: Unutilized

Reason: Extensive deterioration

Bldgs. 11070, 11080

Naval Air Weapons Station

China Lake Co: CA 93555-6100

Landholding Agency: Navy

Property Number: 77200130025

Status: Excess

Reason: Extensive deterioration

Bldg. PM7002

Point Mugu Site Naval Base

Oxnard Co: Ventura CA 93042-5000

Landholding Agency: Navy

Property Number: 77200140001

Status: Unutilized

Reason: Extensive deterioration

Bldg. 1244

Marine Corps Base

Camp Pendleton Co: CA 92055-

Landholding Agency: Navy

Property Number: 77200140002

Status: Excess

Reason: Extensive deterioration

Bldg. 1331

Marine Corps Base

Camp Pendleton Co: CA 92055-

Landholding Agency: Navy

Property Number: 77200140003

Status: Excess

Reason: Extensive deterioration

Bldg. 1364

Marine Corps Base

Camp Pendleton Co: CA 92055-

Landholding Agency: Navy

Property Number: 77200140004

Status: Excess

Reason: Extensive deterioration

Bldg. 1674

Marine Corps Base

Camp Pendleton Co: CA 92055-

Landholding Agency: Navy

Property Number: 77200140005

Status: Excess

Reason: Extensive deterioration

Bldg. 1229

Marine Corps Base

Camp Pendleton Co: CA 92055-

Landholding Agency: Navy

Property Number: 77200140006

Status: Excess

Reason: Extensive deterioration

Bldg. 1242

Marine Corps Base

Camp Pendleton Co: CA 92055-

Landholding Agency: Navy

Property Number: 77200140007

Status: Excess

Reason: Extensive deterioration

Bldg. 1243

Marine Corps Base

Camp Pendleton Co: CA 92055-

Landholding Agency: Navy

Property Number: 77200140008

Status: Excess

Reason: Extensive deterioration

Bldg. 1253

Marine Corps Base

Camp Pendleton Co: CA 92055-

Landholding Agency: Navy

Property Number: 77200140009

Status: Excess

Reason: Extensive deterioration

Bldg. PM388

Naval Air Station, Point Mugu

Oxnard Co: Ventura CA 93042-5000

Landholding Agency: Navy

Property Number: 77200140010

Status: Unutilized

Reason: Extensive deterioration

Bldg. PM54

Naval Air Station

Point Mugu Co: Ventura CA 93042-5000

Landholding Agency: Navy

Property Number: 77200210001

Status: Unutilized

Reason: Extensive deterioration

Bldg. PM56

Naval Air Station

Point Mugu Co: Ventura CA 93042-5000

Landholding Agency: Navy

Property Number: 77200210002

Status: Unutilized

Reason: Extensive deterioration

Bldg. PM754

Naval Air Station

Point Mugu Co: Ventura CA 93042-5000

Landholding Agency: Navy

Property Number: 77200210003

Status: Unutilized

Reason: Extensive deterioration

Bldg. PM777

Naval Air Station

Point Mugu Co: Ventura CA 93042-5000

Landholding Agency: Navy

Property Number: 77200210004

Status: Unutilized

Reason: Extensive deterioration

Bldg. PM7007

Naval Air Station

Point Mugu Co: Ventura CA 93042-5000

Landholding Agency: Navy

Property Number: 77200210005

Status: Unutilized

Reason: Extensive deterioration

Bldg. 303

Naval Weapons Station

Fallbrook Co: CA 92028-3187

Landholding Agency: Navy

Property Number: 77200210006

Status: Unutilized

Reason: Extensive deterioration

Bldg. 1233

Marine Corps Base

Camp Pendleton Co: CA 92055-

Landholding Agency: Navy

Property Number: 77200210007

Status: Excess

Reason: Extensive deterioration

Bldg. 1345

Marine Corps Base

Camp Pendleton Co: CA 92055-

Landholding Agency: Navy

Property Number: 77200210008

Status: Excess

Reason: Extensive deterioration

Bldg. 1643

Marine Corps Base

Camp Pendleton Co: CA 92055-

Landholding Agency: Navy

Property Number: 77200210009

Status: Excess

Reason: Extensive deterioration

Bldg. 1644

Marine Corps Base

Camp Pendleton Co: CA 92055-

Landholding Agency: Navy

Property Number: 77200210010

Status: Excess

Reason: Extensive deterioration

Bldg. 1672

Marine Corps Base

Camp Pendleton Co: CA 92055-

Landholding Agency: Navy

Property Number: 77200210011

Status: Excess

Reason: Extensive deterioration

Bldg. 1673

Marine Corps Base

Camp Pendleton Co: CA 92055-

Landholding Agency: Navy

Property Number: 77200210012

Status: Excess

Reason: Extensive deterioration

Bldg. 2669

Marine Corps Base

Camp Pendleton Co: CA 92055-

Landholding Agency: Navy

Property Number: 77200210013

Status: Excess

Reason: Extensive deterioration

Bldg. 13116

Marine Corps Base

Camp Pendleton Co: CA 92055-

Landholding Agency: Navy

Property Number: 77200210014

Status: Excess

Reason: Extensive deterioration

Bldg. 6

Navy Marine Corps Rsv Ctr

Sacramento Co: CA 95828-

Landholding Agency: Navy

Property Number: 77200210017

Status: Unutilized

Reason: Secured Area

Bldg. 799

Naval Air Station

North Island Co: CA

Landholding Agency: Navy

Property Number: 77200210064

Status: Excess

Reason: Extensive deterioration

Bldg. 1255

Marine Corps Base

Camp Pendleton Co: CA 92055-

Landholding Agency: Navy

Property Number: 77200210087

Status: Excess

Reason: Extensive deterioration

Bldg. 1508

Marine Corps Base

Camp Pendleton Co: CA 92055-

Landholding Agency: Navy

Property Number: 77200210088

Status: Excess

Reason: Extensive deterioration

Bldg. 18417

Marine Corps Base

Camp Pendleton Co: CA 92055-

Landholding Agency: Navy

Property Number: 77200210089

Status: Excess

Reason: Extensive deterioration

Blg. 22159

Marine Corps Base

Camp Pendleton Co: CA 92055-

Landholding Agency: Navy

Property Number: 77200210090

Status: Excess

Reason: Extensive deterioration

Bldg. 41302

Marine Corps Base

Camp Pendleton Co: CA 92055-

Landholding Agency: Navy

Property Number: 77200210091

Status: Excess

Reason: Extensive deterioration

Bldg. 52830

Marine Corps Base

Camp Pendleton Co: CA 92055-

Landholding Agency: Navy

Property Number: 77200210092

Status: Excess

Reason: Extensive deterioration

Bldg. 62551

Marine Corps Base

Camp Pendleton Co: CA 92055-

Landholding Agency: Navy

Property Number: 77200210093

Status: Excess

Reason: Extensive deterioration

Bldg. 210548

Marine Corps Base

Camp Pendleton Co: CA 92055-

Landholding Agency: Navy

Property Number: 77200210094

Status: Excess

Reason: Extensive deterioration

Bldg. 799

Naval Air Station

North Island Co: CA

Landholding Agency: Navy

Property Number: 77200210124

Status: Excess

Reason: Extensive deterioration

Bldg. 2616

Marine Corps Base

Camp Pendleton Co: CA 92055-

Landholding Agency: Navy

Property Number: 77200220001

Status: Excess

Reason: Extensive deterioration

Bldg. 2634

Marine Corps Base

Camp Pendleton Co: CA 92055-

Landholding Agency: Navy

Property Number: 77200220002

Status: Excess

Reason: Extensive deterioration

Bldg. 2643

Marine Corps Base

Camp Pendleton Co: CA 92055-

Landholding Agency: Navy

Property Number: 77200220003

Status: Excess

Reason: Extensive deterioration

Bldg. 2644

Marine Corps Base

Camp Pendleton Co: CA 90255-

Landholding Agency: Navy

Property Number: 77200220004

Status: Excess

Reason: Extensive deterioration

Bldg. 2645

Marine Corps Base

Camp Pendleton Co: CA 92055-

Landholding Agency: Navy

Property Number: 77200220005

Status: Excess

Reason: Extensive deterioration

Bldg. 2646

Marine Corps Base

Camp Pendleton Co: CA 92055-

Landholding Agency: Navy

Property Number: 77200220006

Status: Excess

Reason: Extensive deterioration

Bldg. 2659

Marine Corps Base

Camp Pendleton Co: CA 92055-

Landholding Agency: Navy

Property Number: 77200220007

Status: Excess

Reason: Extensive deterioration

Bldg. 2254

Marine Corps Air Station

Miramar Co: CA

Landholding Agency: Navy

Property Number: 77200220027

Status: Unutilized

Reason: Extensive deterioration

Bldg. 24002

Marine Corps Air Station

Miramar Co: CA

Landholding Agency: Navy

Property Number: 77200220028

Status: Unutilized

Reason: Extensive deterioration

Bldg. 9496

Marine Corps Air Station

Miramar Co: CA

Landholding Agency: Navy

Property Number: 77200220029

Status: Unutilized

Reason: Extensive deterioration

Bldg. 41308

Marine Corps Base

Camp Pendleton Co: CA 92055-

Landholding Agency: Navy

Property Number: 77200220031

Status: Excess

Reason: Extensive deterioration

Eniwetok Carports

Marine Corps Logistics Base

Barstow Co: San Bernardino CA 92311-

Landholding Agency: Navy

Property Number: 77200220032

Status: Unutilized

Reason: Extensive deterioration

Eniwetok Public Quarters

Marine Corps Logistics Base

Barstow Co: San Bernardino CA 92311-

Landholding Agency: Navy

Property Number: 77200220033

Status: Unutilized

Reason: Extensive deterioration

Bldg. 229

Naval Weapons Station

Seal Beach

Fallbrook Co: CA 92028-3187

Landholding Agency: Navy

Property Number: 77200220048

Status: Unutilized

Reason: Extensive deterioration

Bldg. 331

Naval Weapons Station

Seal Beach

Fallbrook Co: CA 92028-3187

Landholding Agency: Navy

Property Number: 77200220049

Status: Unutilized

Reason: Extensive deterioration

Bldg. 434

Naval Weapons Station

Seal Beach

Fallbrook Co: CA 92028-3187

Landholding Agency: Navy

Property Number: 77200220050

Status: Unutilized

Reason: Extensive deterioration

Bldg. 437

Naval Weapons Station

Seal Beach

Fallbrook Co: CA 92028-3187

Landholding Agency: Navy

Property Number: 77200220051

Status: Unutilized

Reason: Extensive deterioration

Bldg. 440

Naval Weapons Station

Seal Beach

Fallbrook Co: CA 92028-3187

Landholding Agency: Navy

Property Number: 77200220052

Status: Unutilized

Reason: Extensive deterioration

Bldg. 906

Naval Weapons Station

Seal Beach

Fallbrook Co: CA 92028-3187

Landholding Agency: Navy

Property Number: 77200220053

Status: Unutilized

Reason: Extensive deterioration

Bldgs. 154, 157

Navy Region South West

San Diego Co: CA

Landholding Agency: Navy

Property Number: 77200220072

Status: Excess

Reason: Extensive deterioration

Bldg. P-1019

Marine Corps Base

Camp Pendleton Co: CA 92055-

Landholding Agency: Navy

Property Number: 77200220073

Status: Excess

Reason: Extensive deterioration

Bldg. P-4039

Marine Corps Base

Camp Pendleton Co: CA 92055-

Landholding Agency: Navy

Property Number: 77200220074

Status: Excess

Reason: Extensive deterioration

Bldg. P-5011

Marine Corps Base

Camp Pendleton Co: CA 92055-

Landholding Agency: Navy

Property Number: 77200220075

Status: Excess

Reason: Extensive deterioration

Bldg. P7058

Marine Corps Base

Camp Pendleton Co: CA 92055-

Landholding Agency: Navy

Property Number: 77200220076

Status: Excess

Reason: Extensive deterioration

Bldg. 354

Naval Weapons Station

Seal Beach Co: CA

Landholding Agency: Navy

Property Number: 77200220077

Status: Unutilized

Reason: Extensive deterioration

Bldg. 356

Naval Weapons Station

Seal Beach Co: CA

Landholding Agency: Navy

Property Number: 77200220078

Status: Unutilized

Reason: Extensive deterioration

Bldg. 357

Naval Weapons Station

Seal Beach Co: CA

Landholding Agency: Navy

Property Number: 77200220079

Status: Unutilized

Reason: Extensive deterioration

Bldg. 358

Naval Weapons Station

Seal Beach Co: CA

Landholding Agency: Navy

Property Number: 77200220080

Status: Unutilized

Reason: Extensive deterioration

Bldg. 3273

Naval Base

San Diego Co: CA

Landholding Agency: Navy

Property Number: 77200230002

Status: Excess

Reason: Extensive deterioration

Bldg. 25

Naval Base Coronado

San Diego Co: CA

Landholding Agency: Navy

Property Number: 77200230003

Status: Excess

Reason: Extensive deterioration

Bldg. 338

Naval Base Coronado

San Diego Co: CA

Landholding Agency: Navy

Property Number: 77200230004

Status: Excess

Reason: Extensive deterioration

Bldg. 607

Naval Base Coronado

San Diego Co: CA

Landholding Agency: Navy

Property Number: 77200230005

Status: Excess

Reason: Extensive deterioration

Bldg. 609

Naval Base Coronado

San Diego Co: CA

Landholding Agency: Navy

Property Number: 77200230006

Status: Excess

Reason: Extensive deterioration

Bldg. 691

Naval Base Coronado

San Diego Co: CA

Landholding Agency: Navy

Property Number: 77200230007

Status: Excess

Reason: Extensive deterioration

Bldg. 660

Naval Air Weapons Station

China Lake Co: CA 93555-6100

Landholding Agency: Navy

Property Number: 77200230021

Status: Excess

Reason: Extensive deterioration

Bldg. 661

Naval Air Weapons Station

China Lake Co: CA 93555-6100

Landholding Agency: Navy

Property Number: 77200230022

Status: Excess

Reason: Extensive deterioration

Bldg. 1291

Naval Air Weapons Station

China Lake Co: CA 93555-6100

Landholding Agency: Navy

Property Number: 77200230023

Status: Excess

Reason: Extensive deterioration

Bldg. 16026

Naval Air Weapons Station

China Lake Co: CA 93555-6100

Landholding Agency: Navy

Property Number: 77200230031

Status: Excess

Reason: Secured Area

Bldg. 30147

Naval Air Weapons Station

China Lake Co: CA 93555-6100

Landholding Agency: Navy

Property Number: 77200230033

Status: Excess

Reason: Secured Area

Bldg. 30220

Naval Air Weapons Station

China Lake Co: CA 93555-6100

Landholding Agency: Navy

Property Number: 77200230034

Status: Excess

Reason: Secured Area

Bldg. 30891

Naval Air Weapons Station

China Lake Co: CA 93555-6100

Landholding Agency: Navy

Property Number: 77200230035

Status: Excess

Reason: Secured Area

Bldg. 30932

Naval Air Weapons Station

China Lake Co: CA 93555-6100

Landholding Agency: Navy

Property Number: 77200230036

Status: Excess

Reason: Secured Area

Bldgs. 18412, 18413, 18414

Marine Warfare Training Ctr

Camp Pendleton Co: CA 92055-

Landholding Agency: Navy

Property Number: 77200230040

Status: Excess

Reason: Extensive deterioration

Bldg. PH5125

Naval Construction Battalion

Port Hueneme Co: Ventura CA 93043-4301

Landholding Agency: Navy

Property Number: 77200230043

Status: Unutilized

Reason: Extensive deterioration

Bldg. PH11

Naval Base

Port Hueneme Co: Ventura CA 93042-5000

Landholding Agency: Navy

Property Number: 77200230045

Status: Unutilized

Reason: Extensive deterioration

Bldg. 37

Marine Corps Logistics Base

Barstow Co: San Bernardino CA 92311-

Landholding Agency: Navy

Property Number: 77200230046

Status: Unutilized

Reason: Extensive deterioration

Bldg. 115

Marine Corps Logistics Base

Barstow Co: San Bernardino CA 92311-

Landholding Agency: Navy

Property Number: 77200230047

Status: Unutilized

Reason: Extensive deterioration

Bldg. 117

Marine Corps Logistics Base

Barstow Co: San Bernardino CA 92311-

Landholding Agency: Navy

Property Number: 77200230048

Status: Unutilized

Reason: Extensive deterioration

Bldg. 557

Marine Corps Logistics Base

Barstow Co: San Bernardino CA 92311-

Landholding Agency: Navy

Property Number: 77200230049

Status: Unutilized

Reason: Extensive deterioration

Bldg. 02606

Naval Air Weapons Station

China Lake Co: CA 93555-6100

Landholding Agency: Navy

Property Number: 77200240001

Status: Excess

Reasons: Secured Area; Extensive deterioration

Bldg. 394

Space & Naval Warfare Systems Center

San Diego Co: CA

Landholding Agency: Navy

Property Number: 77200240041

Status: Unutilized

Reason: Extensive deterioration

Bldg. 428

Space & Naval Warfare Systems Center

San Diego Co: CA

Landholding Agency: Navy

Property Number: 77200240042

Status: Unutilized

Reason: Extensive deterioration

Bldg. 34

Coast Guard Integrated Support Command

Alameda Co: CA

Landholding Agency: DOT

Property Number: 87200240006

Status: Unutilized

Reason: Secured Area

Colorado

Alemeda Facility

350 S. Santa Fe Drive

Denver Co: Denver CO 80223-

Landholding Agency: DOT

Property Number: 87199010014

Status: Unutilized

Reason: Other environmental

Comment: contamination

Connecticut

Falkner Island Light

U.S. Coast Guard

Guilford Co: New Haven CT 06512-

Landholding Agency: DOT

Property Number: 87199240031

Status: Unutilized

Reason: Floodway

District of Columbia

Bldg. A-092

Naval Station Anacostia

Washington Co: DC 20374-

Landholding Agency: Navy

Property Number: 77200110046

Status: Underutilized

Reason: Secured Area

Bldg. A-150

Naval District

Anacostia Annex

Washington Co: DC 20374-

Landholding Agency: Navy

Property Number: 77200140016

Status: Unutilized

Reason: Extensive deterioration

Bldg. A-057

Naval District

Anacostia Annex

Washington Co: DC 20374-

Landholding Agency: Navy

Property Number: 77200140017

Status: Unutilized

Reason: Extensive deterioration

Bldg. A-087/002

Naval District

Anacostia Annex

Washington Co: DC 20374-

Landholding Agency: Navy

Property Number: 77200140018

Status: Unutilized

Reason: Extensive deterioration

Florida

Bldg. 1558

NAS Jacksonville

Jacksonville Co: Duval FL 32212-

Landholding Agency: Navy

Property Number: 77200010001

Status: Unutilized

Reasons: Within 2000 ft. of flammable or explosive material; Secured Area

Bldg. 7L

NAS Jacksonville

Jacksonville Co: Duval FL 32212-

Landholding Agency: Navy

Property Number: 77200010004

Status: Unutilized

Reasons: Secured Area; Extensive deterioration

Bldg. 7H

Naval Air Station

Jacksonville Co: Duval FL 32212-

Landholding Agency: Navy

Property Number: 77200020064

Status: Unutilized

Reasons: Secured Area; Extensive deterioration

Bldg. 7J

Naval Air Station

Jacksonville Co: Duval FL 32212-

Landholding Agency: Navy

Property Number: 77200020065

Status: Unutilized

Reasons: Secured Area; Extensive deterioration

Bldg. 7K

Naval Air Station

Jacksonville Co: Duval FL 32212-

Landholding Agency: Navy

Property Number: 77200020066

Status: Unutilized

Reasons: Secured Area; Extensive deterioration

Bldg. 135

Naval Air Station

Jacksonville Co: Duval FL 32212-

Landholding Agency: Navy

Property Number: 77200020068

Status: Unutilized

Reasons: Secured Area; Extensive deterioration

Bldg. 211

Naval Station

Mayport Co: Duval FL 32228-

Landholding Agency: Navy

Property Number: 77200020077

Status: Unutilized

Reasons: Secured Area; Extensive deterioration

Bldg. 62

NAS Jacksonville

Altoona Co: Marion FL 32702-

Landholding Agency: Navy

Property Number: 77200020111

Status: Unutilized

Reasons: Secured Area; Extensive deterioration

Bldg. 94

NAS Jacksonville

Altoona Co: Marion FL 32702-

Landholding Agency: Navy

Property Number: 77200020112

Status: Unutilized

Reasons: Secured Area; Extensive deterioration

Bldg. 114

Naval Air Station

Whiting Field

Milton Co: Santa Rosa FL 32570-

Landholding Agency: Navy

Property Number: 77200040006

Status: Underutilized

Reasons: Within airport runway clear zone; Secured Area

Bldg. 133

Naval Air Station

Whiting Field

Milton Co: Santa Rosa FL 32570-

Landholding Agency: Navy

Property Number: 77200040007

Status: Underutilized

Reasons: Within airport runway clear zone; Secured Area

Bldg. 141

Naval Air Station

Whiting Field

Milton Co: Santa Rosa FL 32570-

Landholding Agency: Navy

Property Number: 77200040008

Status: Underutilized

Reasons: Within airport runway clear zone; Secured Area

16 Bldgs.

Naval Air Station

Whiting Field

Milton Co: Santa Rosa FL 32570-

Location: 142, 151, 153, 156, 164, 170, 171, 176, 178, 180, 182-187

Landholding Agency: Navy

Property Number: 77200040009

Status: Underutilized

Reasons: Within airport runway clear zone; Secured Area

11 Bldgs.

Naval Air Station

Whiting Field

Milton Co: Santa Rosa FL 32570-

Location: 103, 105, 112, 113, 115-119, 121, 122

Landholding Agency: Navy

Property Number: 77200040010

Status: Underutilized

Reasons: Within airport runway clear zone; Secured Area

23 Bldgs.

Naval Air Station

Whiting Field

Milton Co: Santa Rosa FL 32570-

Location: 143-150, 152, 154, 155, 157, 158, 160-163, 165, 166, 168, 169, 179, 181

Landholding Agency: Navy

Property Number: 77200040011

Status: Underutilized

Reasons: Within airport runway clear zone; Secured Area

5 Bldgs.

Naval Air Station

Whiting Field

Milton Co: Santa Rosa FL 32570-

Location: 173, 174, 175, 177, 188

Landholding Agency: Navy

Property Number: 77200040012

Status: Underutilized

Reasons: Within airport runway clear zone; Secured Area

6 Bldgs.

Naval Air Station

Whiting Field

Milton Co: Santa Rosa FL 32570-

Location: 130-132, 134-136

Landholding Agency: Navy

Property Number: 77200040013

Status: Underutilized

Reasons: Within airport runway clear zone; Secured Area

Bldgs. 159, 167, 172

Naval Air Station

Whiting Field

Milton Co: Santa Rosa FL 32570-

Landholding Agency: Navy

Property Number: 77200040014

Status: Underutilized

Reasons: Within airport runway clear zone; Secured Area

5 Bldgs.

Naval Air Station

Whiting Field

Milton Co: Santa Rosa FL 32570-

Location: 124, 127, 138-140

Landholding Agency: Navy

Property Number: 77200040015

Status: Underutilized

Reasons: Within airport runway clear zone; Secured Area

5 Bldgs.

Naval Air Station

Whiting Field

Milton Co: Santa Rosa FL 32570-

Location: 107, 109, 111, 120, 123

Landholding Agency: Navy

Property Number: 77200040016

Status: Underutilized

Reasons: Within airport runway clear zone; Secured Area

5 Bldgs.

Naval Air Station

Whiting Field

Milton Co: Santa Rosa FL 32570-

Location: 102, 104, 106, 108, 110

Landholding Agency: Navy

Property Number: 77200040017

Status: Underutilized

Reasons: Within airport runway clear zone; Secured Area

Bldg. 172

Naval Air Station

Jacksonville Co: Duval FL 32212-

Landholding Agency: Navy

Property Number: 77200130012

Status: Unutilized

Reason: Extensive deterioration

Bldg. 146

Naval Air Station

Pensacola Co: Escambia FL 32508-

Landholding Agency: Navy

Property Number: 77200130070

Status: Underutilized

Reason: Secured Area

Bldg. 679

Naval Air Station

Pensacola Co: Escambia FL 32508-

Landholding Agency: Navy

Property Number: 77200130071

Status: Underutilized

Reason: Secured Area

Bldg. 680

Naval Air Station

Pensacola Co: Escambia FL 32508-

Landholding Agency: Navy

Property Number: 77200130072

Status: Unutilized

Reason: Secured Area

Bldg. 743

Naval Air Station

Pensacola Co: Escambia FL 32508-

Landholding Agency: Navy

Property Number: 77200130073

Status: Unutilized

Reason: Secured Area

Bldg. 782

Naval Air Station

Pensacola Co: Escambia FL 32508-

Landholding Agency: Navy

Property Number: 77200130074

Status: Underutilized

Reason: Secured Area

Bldg. 782A

Naval Air Station

Pensacola Co: Escambia FL 32508-

Landholding Agency: Navy

Property Number: 77200130075

Status: Unutilized

Reason: Secured Area

Bldg. 1082

Naval Air Station

Pensacola Co: Escambia FL 32508-

Landholding Agency: Navy

Property Number: 77200130076

Status: Underutilized

Reason: Secured Area

Bldg. 1536

Naval Air Station

Pensacola Co: Escambia FL 32508-

Landholding Agency: Navy

Property Number: 77200130077

Status: Unutilized

Reason: Secured Area

Bldg. 1567

Naval Air Station

Pensacola Co: Escambia FL 32508-

Landholding Agency: Navy

Property Number: 77200130078

Status: Unutilized

Reason: Secured Area

Bldg. 1735

Naval Air Station

Pensacola Co: Escambia FL 32508-

Landholding Agency: Navy

Property Number: 77200130079

Status: Underutilized

Reason: Secured Area

Bldg. 1813

Naval Air Station

Pensacola Co: Escambia FL 32508-

Landholding Agency: Navy

Property Number: 77200130080

Status: Unutilized

Reason: Secured Area

Bldg. 2666

Naval Air Station

Pensacola Co: Escambia FL 32508-

Landholding Agency: Navy

Property Number: 77200130081

Status: Unutilized

Reason: Secured Area

Bldg. 3278

Naval Air Station

Pensacola Co: Escambia FL 32508-

Landholding Agency: Navy

Property Number: 77200130082

Status: Unutilized

Reason: Secured Area

Bldg. 3378

Naval Air Station

Pensacola Co: Escambia FL 32508-

Landholding Agency: Navy

Property Number: 77200130083

Status: Unutilized

Reason: Secured Area

Bldg. 3589

Naval Air Station

Pensacola Co: Escambia FL 32508-

Landholding Agency: Navy

Property Number: 77200130084

Status: Underutilized

Reason: Secured Area

Bldg. 13

NAS Jacksonville

Pinescastle Bombing Range

Salt Springs Co: Volusia FL

Landholding Agency: Navy

Property Number: 77200230024

Status: Unutilized

Reasons: Secured Area; Extensive deterioration

Bldg. 45

NAS Jacksonville

Pinescastle Bombing Range

Salt Springs Co: Volusia FL

Landholding Agency: Navy

Property Number: 77200230025

Status: Unutilized

Reasons: Secured Area; Extensive deterioration

Bldg. 67

NAS Jacksonville

Pinescastle Bombing Range

Salt Springs Co: Volusia FL

Landholding Agency: Navy

Property Number: 77200230026

Status: Unutilized

Reasons: Secured Area; Extensive deterioration

Bldg. 73

NAS Jacksonville

Pinescastle Bombing Range

Salt Springs Co: FL

Landholding Agency: Navy

Property Number: 77200230027

Status: Unutilized

Reasons: Secured Area; Extensive deterioration

Bldg. 75

NAS Jacksonville

Pinescastle Bombing Range

Salt Springs Co: Volusia FL

Landholding Agency: Navy

Property Number: 77200230028

Status: Unutilized

Reasons: Secured Area; Extensive deterioration

Bldg. 76

NAS Jacksonville

Pinescastle Bombing Range

Salt Springs Co: Volusia FL

Landholding Agency: Navy

Property Number: 77200230029

Status: Unutilized

Reasons: Secured Area; Extensive deterioration

Bldg. 148

Naval Air Station

Jacksonville Co: Duval FL 32212-

Landholding Agency: Navy

Property Number: 77200240002

Status: Unutilized

Reasons: Secured Area; Extensive deterioration

Bldg. 161

Naval Air Station

Jacksonville Co: Duval FL 32212-

Landholding Agency: Navy

Property Number: 77200240003

Status: Unutilized

Reasons: Secured Area; Extensive deterioration

Bldg. 944

Naval Air Station

Jacksonville Co: Duval FL 32212-

Landholding Agency: Navy

Property Number: 77200240004

Status: Unutilized

Reasons: Secured Area; Extensive deterioration

Bldg. C-26

Naval Air Station

Key West Co: Monroe FL 33040-

Landholding Agency: Navy

Property Number: 77200240043

Status: Unutilized

Reason: Extensive deterioration

Bldg. F-44

Naval Air Station

Key West Co: Monroe FL 33040-

Landholding Agency: Navy

Property Number: 77200240044

Status: Unutilized

Reason: Extensive deterioration

Bldg. 68

Coastal Systems Station

Panama City Co: Bay FL 32407-

Landholding Agency: Navy

Property Number: 77200310025

Status: Unutilized

Reasons: Secured Area; Extensive deterioration

Bldg. 6A

Naval Air Station

Jacksonville Co: Duval FL 32212-

Landholding Agency: Navy

Property Number: 77200310026

Status: Unutilized

Reason: Secured Area

Bldg. 6B

Naval Air Station

Jacksonville Co: Duval FL 32212-

Landholding Agency: Navy

Property Number: 77200310027

Status: Unutilized

Reason: Secured Area

Bldg. 6C

Naval Air Station

Jacksonville Co: Duval FL 32212-

Landholding Agency: Navy

Property Number: 77200310028

Status: Unutilized

Reason: Secured Area

Bldg. 6D

Naval Air Station

Jacksonville Co: Duval FL 32212-

Landholding Agency: Navy

Property Number: 77200310029

Status: Unutilized

Reason: Secured Area

Bldg. 6E

Naval Air Station

Jacksonville Co: Duval FL 32212-

Landholding Agency: Navy

Property Number: 77200310030

Status: Unutilized

Reason: Secured Area

Bldg. 6F

Naval Air Station

Jacksonville Co: Duval FL 32212-

Landholding Agency: Navy

Property Number: 77200310031

Status: Unutilized

Reason: Secured Area

Bldg. 6G

Naval Air Station

Jacksonville Co: Duval FL 32212-

Landholding Agency: Navy

Property Number: 77200310032

Status: Unutilized

Reason: Secured Area

Bldg. #3, Recreation Cottage

USCG Station

Marathon Co: Monroe FL 33050-

Landholding Agency: DOT

Property Number: 87199210008

Status: Unutilized

Reasons: Floodway; Secured Area

Bldg. 103, Trumbo Point

Key West Co: Monroe FL 33040-

Landholding Agency: DOT

Property Number: 87199230001

Status: Unutilized

Reasons: Floodway; Secured Area

Exchange Building

St. Petersburg Co: Pinellas FL 33701-

Landholding Agency: DOT

Property Number: 87199410004

Status: Unutilized

Reason: Floodway

9988 Keepers Quarters A

Cape San Blas

Port St. Joe Co: Gulf FL

Landholding Agency: DOT

Property Number: 87199440009

Status: Underutilized

Reasons: Floodway; Secured Area

9989 Keepers Quarters B

Cape San Blas

Port St. Joe Co: Gulf FL

Landholding Agency: DOT

Property Number: 87199440010

Status: Underutilized

Reasons: Floodway; Secured Area

9990 Bldg.

Cape San Blas

Port St. Joe Co: Gulf FL

Landholding Agency: DOT

Property Number: 87199440011

Status: Underutilized

Reasons: Floodway; Secured Area

9991 Plant Bldg.

Cape San Blas

Port St. Joe Co: Gulf FL

Landholding Agency: DOT

Property Number: 87199440012

Status: Underutilized

Reasons: Floodway; Secured Area

9992 Shop Bldg.

Cape San Blas

Port St. Joe Co: Gulf FL

Landholding Agency: DOT

Property Number: 87199440013

Status: Underutilized

Reasons: Floodway; Secured Area

9993 Admin. Bldg.

Cape San Blas

Port St. Joe Co: Gulf FL

Landholding Agency: DOT

Property Number: 87199440014

Status: Underutilized

Reasons: Floodway; Secured Area

9994 Water Pump Bldg.

Cape San Blas

Port St. Joe Co: Gulf FL

Landholding Agency: DOT

Property Number: 87199440015

Status: Underutilized

Reasons: Floodway; Secured Area

Storage Bldg.

Cape San Blas

Port St. Joe Co: Gulf FL

Landholding Agency: DOT

Property Number: 87199440016

Status: Underutilized

Reasons: Floodway; Secured Area

9999 Storage Bldg.

Cape San Blas

Port St. Joe Co: Gulf FL

Landholding Agency: DOT

Property Number: 87199440017

Status: Underutilized

Reasons: Floodway; Secured Area

3 Bldgs. and Land

Peanut Island Station

Riveria Beach Co: Palm Beach FL 33419-0909

Landholding Agency: DOT

Property Number: 87199510009

Status: Unutilized

Reasons: Floodway; Secured Area

Cape St. George Lighthouse

Co: Franklin FL 32328-

Landholding Agency: DOT

Property Number: 87199640002

Status: Unutilized

Reason: Extensive deterioration

Maint/Carpentry Shop

USCG Station

St. Petersburg Co: Pinellas FL 33701-

Landholding Agency: DOT

Property Number: 87200120001

Status: Excess

Reasons: Secured Area; Extensive deterioration

Georgia

Coast Guard Station

St. Simons Island

Co: Glynn GA 31522-0577

Landholding Agency: DOT

Property Number: 87199540002

Status: Unutilized

Reason: Extensive deterioration

Guam

Bldg. 138

Naval Forces, Marianas

Marianas Co: GU 96540-

Landholding Agency: Navy

Property Number: 77200210100

Status: Unutilized

Reason: Secured Area

Bldg. 460

Naval Forces, Marianas

Marianas Co: GU 96540-

Landholding Agency: Navy

Property Number: 77200210101

Status: Unutilized

Reason: Secured Area

Bldg. 1741

Naval Forces, Marianas

Marianas Co: GU 96540-

Landholding Agency: Navy

Property Number: 77200210102

Status: Unutilized

Reason: Secured Area

Bldg. 1742

Naval Forces, Marianas

Marianas Co: GU 96540-

Landholding Agency: Navy

Property Number: 77200210103

Status: Underutilized

Reason: Secured Area

Bldg. 1743

Naval Forces, Marianas

Marianas Co: GU 96540-

Landholding Agency: Navy

Property Number: 77200210104

Status: Underutilized

Reason: Secured Area

Bldg. 6012

Naval Forces, Marianas

Marianas Co: GU 96540-

Landholding Agency: Navy

Property Number: 77200210105

Status: Unutilized

Reason: Secured Area

Bldg. 6011

Naval Forces, Marianas

Marianas Co: GU 96540-

Landholding Agency: Navy

Property Number: 77200220024

Status: Unutilized

Reason: Secured Area

Hawaii

Bldg. 126, Naval Magazine

Waikele Branch

Lualualei Co: Oahu HI 96792-

Landholding Agency: Navy

Property Number: 77199230012

Status: Unutilized

Reasons: Within 2000 ft. of flammable or explosive material; Extensive Deterioration; Secured Area

Bldg. Q75, Naval Magazine

Lualualei Branch

Lualualei Co: Oahu HI 96792-

Landholding Agency: Navy

Property Number: 77199230013

Status: Unutilized

Reasons: Extensive Deterioration; Secured Area

Bldg. 7, Naval Magazine

Lualualei Branch

Lualualei Co: Oahu HI 96792-

Landholding Agency: Navy

Property Number: 77199230014

Status: Unutilized

Reasons: Extensive Deterioration; Secured Area

Bldg. 9

Navy Public Works Center

Kolekole Road

Lualualei Co: Honolulu HI 96782-

Landholding Agency: Navy

Property Number: 77199530009

Status: Excess

Reasons: Within 2000 ft. of flammable or explosive material; Secured Area

Bldg. X5

Nanumea Road

Pearl Harbor Co: Honolulu HI 96782-

Landholding Agency: Navy

Property Number: 77199530010

Status: Excess

Reason: Secured Area

Bldg. SX30

Nanumea Road

Pearl Harbor Co: Honolulu HI 96860-

Landholding Agency: Navy

Property Number: 77199530011

Status: Excess

Reason: Secured Area

Bldg. 98

Pearl Harbor Naval Shipyard

Pearl Harbor Co: Honolulu HI 96860-

Landholding Agency: Navy

Property Number: 77199620032

Status: Excess

Reason: Extensive deterioration

Bldg. Q13

Naval Station, Ford Island

Pearl Harbor Co: Honolulu HI 96860-

Landholding Agency: Navy

Property Number: 77199640035

Status: Unutilized

Reason: Extensive deterioration

Bldg. Q14

Naval Station, Ford Island

Pearl Harbor Co: Honolulu HI 96860-

Landholding Agency: Navy

Property Number: 77199640036

Status: Unutilized

Reason: Extensive deterioration

Bldg. 40

Naval Magazine Lualualei

Co: Oahu HI 96792-4301

Landholding Agency: Navy

Property Number: 77199830028

Status: Unutilized

Reason: Extensive deterioration

Bldg. 50

Naval Magazine Lualualei

Co: Oahu HI 96792-4301

Landholding Agency: Navy

Property Number: 77199830029

Status: Unutilized

Reason: Extensive deterioration

Bldg. Q76

Naval Magazine Lualualei

Co: Oahu HI 96792-4301

Landholding Agency: Navy

Property Number: 77199830030

Status: Unutilized

Reason: Extensive deterioration

Bldg. Q334

Naval Magazine Lualualei

Co: Oahu HI 96792-4301

Landholding Agency: Navy

Property Number: 77199830031

Status: Unutilized

Reason: Extensive deterioration

Bldg. Q410

Naval Magazine Lualualei

Co: Oahu HI 96792-4301

Landholding Agency: Navy

Property Number: 77199830034

Status: Unutilized

Reason: Extensive deterioration

Bldg. Q422

Naval Magazine Lualualei

Co: Oahu HI 96792-4301

Landholding Agency: Navy

Property Number: 77199830035

Status: Unutilized

Reason: Extensive deterioration

Bldg. 429

Naval Magazine Lualualei

Co: Oahu HI 96792-4301

Landholding Agency: Navy

Property Number: 77199830036

Status: Unutilized

Reason: Extensive deterioration

Bldg. 431

Naval Magazine Lualualei

Co: Oahu HI 96792-4301

Landholding Agency: Navy

Property Number: 77199830037

Status: Unutilized

Reason: Extensive deterioration

Bldg. 447

Naval Magazine Lualualei

Co: Oahu HI 96792-4301

Landholding Agency: Navy

Property Number: 77199830038

Status: Unutilized

Reason: Extensive deterioration

Facility 19

Naval Station

Pearl Harbor Co: Honolulu HI 96860-

Landholding Agency: Navy

Property Number: 77199840045

Status: Excess

Reason: Secured Area

Facility SX30

Navy Public Works Center

Pearl Harbor Co: Honolulu HI 96860-

Landholding Agency: Navy

Property Number: 77199920027

Status: Excess

Reasons: Secured Area; Extensive deterioration

Facility 9

Fleet Industrial Supply

Ewa Junction

Waipahu Co: HI 96797-

Landholding Agency: Navy

Property Number: 77200230008

Status: Excess

Reasons: Secured Area; Extensive deterioration

Facility 88

NCTAMS PAC

Wahiawa Co: HI 96786-

Landholding Agency: Navy

Property Number: 77200230010

Status: Excess

Reason: Secured Area

Facility 295

NCTAMS PAC

Wahiawa Co: HI 96786-

Landholding Agency: Navy

Property Number: 77200230011

Status: Excess

Reason: Secured Area

Bldg. T47

Naval Shipyard

Pearl Harbor Co: Honolulu HI 96860-5350

Landholding Agency: Navy

Property Number: 77200240045

Status: Unutilized

Reason: Extensive deterioration

Bldg. 329

NCTAMS PAC

Wahiawa Co: HI 96786-

Landholding Agency: Navy

Property Number: 77200240058

Status: Excess

Reason: Secured Area

Illinois

Bldg. 415

Naval Training Center

201 N. Decatur Ave.

Great Lakes IL

Landholding Agency: Navy

Property Number: 77199840023

Status: Unutilized

Reason: Secured Area

Bldg. 1015

Naval Training Center

201 N. Decatur Ave.

Great Lakes IL

Landholding Agency: Navy

Property Number: 77199840024

Status: Unutilized

Reason: Secured Area

Bldg. 1016

Naval Training Center

201 N. Decatur Ave.

Great Lakes IL

Landholding Agency: Navy

Property Number: 77199840025

Status: Unutilized

Reason: Secured Area

Bldg. 910

Naval Training Center

Great Lakes Co: IL 60088-5000

Landholding Agency: Navy

Property Number: 77199920055

Status: Unutilized

Reason: Secured Area

Bldg. 800

Naval Training Center

Great Lakes Co: IL 60088-5000

Landholding Agency: Navy

Property Number: 77199920056

Status: Unutilized

Reason: Secured Area

Bldg. 1000

Naval Training Center

Great Lakes Co: IL 60088-5000

Landholding Agency: Navy

Property Number: 77199920057

Status: Unutilized

Reason: Secured Area

Bldg. 1200

Naval Training Center

Great Lakes Co: IL 60088-5000

Landholding Agency: Navy

Property Number: 77199920058

Status: Unutilized

Reason: Secured Area

Bldg. 1400

Naval Training Center

Great Lakes Co: IL 60088-5000

Landholding Agency: Navy

Property Number: 77199920059

Status: Unutilized

Reason: Secured Area

Bldg. 1600

Naval Training Center

Great Lakes Co: IL 60088-5000

Landholding Agency: Navy

Property Number: 77199920060

Status: Unutilized

Reason: Secured Area

Bldg. 2600

Naval Training Center

Great Lakes Co: IL 60088-5000

Landholding Agency: Navy

Property Number: 77199920061

Status: Unutilized

Reason: Secured Area

Calumet Harbor Station

U.S. Coast Guard

Chicago Co: Cook IL

Landholding Agency: DOT

Property Number: 87199310005

Status: Excess

Reason: Secured Area

Kentucky

Dwelling

USCG Shoreside Detachment

Owensboro Co: Daviess KY

Landholding Agency: DOT

Property Number: 87200230010

Status: Unutilized

Reason: Extensive deterioration

Maine

Bldg. M-4

Portsmouth Naval Shipyard

Kittery Co: York ME 03904-

Landholding Agency: Navy

Property Number: 77200240012

Status: Excess

Reason: Secured Area

Bldg. M-6

Portsmouth Naval Shipyard

Kittery Co: York ME 03904-

Landholding Agency: Navy

Property Number: 77200240013

Status: Excess

Reason: Secured Area

Bldg. M-9

Portsmouth Naval Shipyard

Kittery Co: York ME 03904-

Landholding Agency: Navy

Property Number: 77200240014

Status: Excess

Reason: Secured Area

Bldg. M-10

Portsmouth Naval Shipyard

Kittery Co: York ME 03904-

Landholding Agency: Navy

Property Number: 77200240015

Status: Excess

Reason: Secured Area

Bldg. M-11

Portsmouth Naval Shipyard

Kittery Co: York ME 03904-

Landholding Agency: Navy

Property Number: 77200240016

Status: Excess

Reason: Secured Area

Bldg. M-18

Portsmouth Naval Shipyard

Kittery Co: York ME 03904-

Landholding Agency: Navy

Property Number: 77200240017

Status: Excess

Reason: Secured Area

Bldg. H-29

Portsmouth Naval Shipyard

Kittery Co: York ME 03904-

Landholding Agency: Navy

Property Number: 77200240018

Status: Excess

Reasons: Within 2000 ft. of flammable or explosive material; Secured Area

Bldg. 33

Portsmouth Naval Shipyard

Kittery Co: York ME 03904-

Landholding Agency: Navy

Property Number: 77200240019

Status: Excess

Reason: Secured Area

Bldg. 34

Portsmouth Naval Shipyard

Kittery Co: York ME 03904-

Landholding Agency: Navy

Property Number: 77200240020

Status: Excess

Reason: Secured Area

Bldg. 41

Portsmouth Naval Shipyard

Kittery Co: York ME 03904-

Landholding Agency: Navy

Property Number: 77200240021

Status: Excess

Reason: Secured Area

Bldg. 55

Portsmouth Naval Shipyard

Kittery Co: York ME 03904-

Landholding Agency: Navy

Property Number: 77200240022

Status: Excess

Reason: Secured Area

Bldg. 62/62A

Portsmouth Naval Shipyard

Kittery Co: York ME 03904-

Landholding Agency: Navy

Property Number: 77200240023

Status: Excess

Reason: Secured Area

Bldg. 63

Portsmouth Naval Shipyard

Kittery Co: York ME 03904-

Landholding Agency: Navy

Property Number: 77200240024

Status: Excess

Reason: Secured Area

Bldg. 65

Portsmouth Naval Shipyard

Kittery Co: York ME 03904-

Landholding Agency: Navy

Property Number: 77200240025

Status: Excess

Reason: Secured Area

Bldg. 158

Portsmouth Naval Shipyard

Kittery Co: York ME 03904-

Landholding Agency: Navy

Property Number: 77200240026

Status: Excess

Reasons: Within 2000 ft. of flammable or explosive material; Secured Area

Bldg. 188

Portsmouth Naval Shipyard

Kittery Co: York ME 03904-

Landholding Agency: Navy

Property Number: 77200240027

Status: Excess

Reason: Secured Area

Bldg. 189

Portsmouth Naval Shipyard

Kittery Co: York ME 03904-

Landholding Agency: Navy

Property Number: 77200240028

Status: Excess

Reason: Secured Area

Bldg. 237

Portsmouth Naval Shipyard

Kittery Co: York ME 03904-

Landholding Agency: Navy

Property Number: 77200240029

Status: Excess

Reason: Secured Area

Bldg. 322

Portsmouth Naval Shipyard

Kittery Co: York ME 03904-

Landholding Agency: Navy

Property Number: 77200240030

Status: Excess

Reason: Secured Area

Supply Bldg., Coast Guard

Southwest Harbor

Southwest Harbor Co: Hancock ME 04679-5000

Landholding Agency: DOT

Property Number: 87199240005

Status: Unutilized

Reason: Floodway

Base Exchange, Coast Guard

Southwest Harbor

Southwest Harbor Co: Hancock ME 04679-5000

Landholding Agency: DOT

Property Number: 87199240006

Status: Unutilized

Reason: Floodway

Engineering Shop, Coast Guard

Southwest Harbor

Southwest Harbor Co: Hancock ME 04679-5000

Landholding Agency: DOT

Property Number: 87199240007

Status: Unutilized

Reason: Floodway

Storage Bldg., Coast Guard

Southwest Harbor

Southwest Harbor Co: Hancock ME 04679-5000

Landholding Agency: DOT

Property Number: 87199240008

Status: Unutilized

Reason: Floodway

Squirrel Point Light

U.S. Coast Guard

Phippsburg Co: Sayadahoc ME 04530-

Landholding Agency: DOT

Property Number: 87199240032

Status: Unutilized

Reason: Floodway

Keepers Dwelling

Heron Neck Light, U.S. Coast Guard

Vinalhaven Co: Knox ME 04841-

Landholding Agency: DOT

Property Number: 87199240035

Status: Unutilized

Reason: Extensive deterioration

Fort Popham Light

Phippsburg Co: Sagadahoc ME 04562-

Landholding Agency: DOT

Property Number: 87199320024

Status: Unutilized

Reason: Extensive deterioration

Nash Island Light

U.S. Coast Guard

Addison Co: Washington ME 04606-

Landholding Agency: DOT

Property Number: 87199420005

Status: Unutilized

Reason: Inaccessible

Bldg.—South Portland Base

U.S. Coast Guard

S. Portland Co: Cumberland ME 04106-

Landholding Agency: DOT

Property Number: 87199420006

Status: Unutilized

Reason: Secured Area

Garage—Boothbay Harbor Stat.

Boothbay Harbor Co: Lincoln ME 04538-

Landholding Agency: DOT

Property Number: 87199430001

Status: Unutilized

Reason: Secured Area

Maryland

15 Bldgs.

Naval Air Warfare Center

Patuxent River Co: St. Mary's MD 20670-5304

Landholding Agency: Navy

Property Number: 77199730062

Status: Unutilized

Reason: Extensive deterioration

Bldg. 867

Naval Air Station

Patuxent River Co: MD 20670-

Landholding Agency: Navy

Property Number: 77200120010

Status: Excess

Reason: Extensive deterioration

Bldg. 868

Naval Air Station

Patuxent River Co: MD 20670-

Landholding Agency: Navy

Property Number: 77200120011

Status: Excess

Reason: Extensive deterioration

Bldg. 1044

Naval Air Station

Patuxent River Co: MD 20670-

Landholding Agency: Navy

Property Number: 77200120012

Status: Excess

Reason: Extensive deterioration

Bldg. S-038

Naval District

Solomons Complex

Solomons Co: MD 20688-0147

Landholding Agency: Navy

Property Number: 77200140013

Status: Unutilized

Reason: Extensive deterioration

Bldg. S-046

Naval District

Solomons Complex

Solomons Co: MD 20688-0147

Landholding Agency: Navy

Property Number: 77200140014

Status: Unutilized

Reason: Extensive deterioration

Bldg. F-1676

Naval Air Facility

Andrews AFB Co: MD 20762-5518

Landholding Agency: Navy

Property Number: 77200140015

Status: Unutilized

Reason: Extensive deterioration

Bldg. 585

Naval Air Station

Patuxent River Co: MD

Landholding Agency: Navy

Property Number: 77200220030

Status: Excess

Reason: Extensive deterioration

Structure 145

Naval Surface Warfare Center

W. Bethesda Co: MD 20817-

Landholding Agency: Navy

Property Number: 77200230013

Status: Underutilized

Reason: Secured Area

Bldg. 149

Naval Air Station

Patuxent River Co: MD

Landholding Agency: Navy

Property Number: 77200230038

Status: Excess

Reason: Extensive deterioration

Bldg. 425

Naval Air Station

Patuxent River Co: MD

Landholding Agency: Navy

Property Number: 77200230039

Status: Excess

Reason: Extensive deterioration

Bldgs. 38-39, 41, 43-46, 56

U.S. Coast Guard Yard

Baltimore MD 21226-

Landholding Agency: DOT

Property Number: 87199540005

Status: Unutilized

Reasons: Within 2000 ft. of flammable or explosive material; Secured Area; Extensive deterioration

Bldg. 53

U.S. Coast Guard Yard

Baltimore MD 21226-

Landholding Agency: DOT

Property Number: 87199540006

Status: Unutilized

Reasons: Within 2000 ft. of flammable or explosive material; Secured Area; Extensive deterioration

Bldg. 6

U.S. Coast Guard Yard, 2401 Hawkins Point Rd.

Baltimore MD 21226-1797

Landholding Agency: DOT

Property Number: 87199620001

Status: Excess

Reasons: Within 2000 ft. of flammable or explosive material; Secured Area

Bldg. 59

U.S. Coast Guard Yard, 2401 Hawkins Point Rd.

Baltimore MD 21226-1797

Landholding Agency: DOT

Property Number: 87199620002

Status: Excess

Reasons: Within 2000 ft. of flammable or explosive material; Secured Area

5 Bldgs.

USCG Yard

#9, 21, 23, 52, 57

Baltimore Co: MD 21226-

Landholding Agency: DOT

Property Number: 87200120002

Status: Unutilized

Reason: Extensive deterioration

Bldg. #81

U.S. Coast Guard YARD

Baltimore Co: Baltimore MD 21226-

Landholding Agency: DOT

Property Number: 87200210001

Status: Underutilized

Reason: Secured Area

Bldg. #85

U.S. Coast Guard YARD

Baltimore Co: Baltimore MD 21226-

Landholding Agency: DOT

Property Number: 87200210002

Status: Underutilized

Reason: Secured Area

Bldg. #86

U.S. Coast Guard YARD

Baltimore Co: Baltimore MD 21226-

Landholding Agency: DOT

Property Number: 87200210003

Status: Underutilized

Reason: Secured Area

Bldg. #86D

U.S. Coast Guard YARD

Baltimore Co: Baltimore MD 21226-

Landholding Agency: DOT

Property Number: 87200210004

Status: Underutilized

Reason: Secured Area

Bldg. #149

U.S. Coast Guard YARD

Baltimore Co: Baltimore MD 21226-

Landholding Agency: DOT

Property Number: 87200210005

Status: Underutilized

Reason: Secured Area

Massachusetts

Bldg. 4, USCG Support Center

Commercial Street

Boston Co: Suffolk MA 02203-

Landholding Agency: DOT

Property Number: 87199240001

Status: Underutilized

Reason: Secured Area

Eastern Point Light

U.S. Coast Guard

Gloucester Co: Essex MA 01930-

Landholding Agency: DOT

Property Number: 87199240029

Status: Unutilized

Reasons: Floodway; Secured Area

Storage Shed

Highland Light

N. Truro Co: Barnstable MA 02652-

Location: DeSoto Johnson KS 66018-

Landholding Agency: DOT

Property Number: 87199430004

Status: Unutilized

Reason: Extensive deterioration

Michigan

Station Bldg.

USCG Station

Manistee Co: MI 49660-

Landholding Agency: DOT

Property Number: 87200120003

Status: Unutilized

Reasons: Floodway; Secured Area

Garage Bldg.

USCG Station

Manistee Co: MI 49660-

Landholding Agency: DOT

Property Number: 87200120004

Status: Unutilized

Reasons: Floodway; Secured Area

Shed/Pump Bldg.

USCG Station

Manistee Co: MI 49660-

Landholding Agency: DOT

Property Number: 87200120005

Status: Unutilized

Reasons: Floodway; Secured Area

Storage Bldg.

USCG Station

Manistee Co: MI 49660-

Landholding Agency: DOT

Property Number: 87200120006

Status: Unutilized

Reasons: Floodway; Secured Area

Station/boathouse Bldg.

USCG Harbor Beach Station

Harbor Beach Co: Huron MI 48441-

Landholding Agency: DOT

Property Number: 87200130001

Status: Unutilized

Reasons: Floodway; Extensive deterioration

Mississippi

Bldg. 12

Naval Construction Battalion Center

Gulfport Co: Harrison MS 39501-

Landholding Agency: Navy

Property Number: 77200130029

Status: Unutilized

Reason: Secured Area

Bldg. 23

Naval Construction Battalion Center

Gulfport Co: Harrison MS 39501-

Landholding Agency: Navy

Property Number: 77200130030

Status: Unutilized

Reason: Secured Area

Bldg. 36

Naval Construction Battalion Center

Gulfport Co: Harrison MS 39501-

Landholding Agency: Navy

Property Number: 77200130031

Status: Unutilized

Reasons: Secured Area; Extensive deterioration

Bldg. 141

Naval Construction Battalion Center

Gulfport Co: Harrison MS 39501-

Landholding Agency: Navy

Property Number: 77200130032

Status: Unutilized

Reasons: Secured Area; Extensive deterioration

Bldg. 172

Naval Construction Battalion Center

Gulfport Co: Harrison MS 39501-

Landholding Agency: Navy

Property Number: 77200130033

Status: Unutilized

Reasons: Secured Area; Extensive deterioration

Bldg. 185

Naval Construction Battalion Center

Gulfport Co: Harrison MS 39501-

Landholding Agency: Navy

Property Number: 77200130034

Status: Unutilized

Reasons: Secured Area; Extensive deterioration

Bldg. 220

Naval Construction Battalion Center

Gulfport Co: Harrison MS 39501-

Landholding Agency: Navy

Property Number: 77200130035

Status: Unutilized

Reasons: Secured Area; Extensive deterioration

Bldg. 236

Naval Construction Battalion Center

Gulfport Co: Harrison MS 39501-

Landholding Agency: Navy

Property Number: 77200130036

Status: Unutilized

Reasons: Secured Area; Extensive deterioration

Structure 427

Naval Construction Battalion Center

Gulfport Co: Harrison MS 39501-

Landholding Agency: Navy

Property Number: 77200130037

Status: Unutilized

Reason: Secured Area

Bldg. QQ

Naval Station

Pascagoula Co: Jackson MS 39595-

Landholding Agency: Navy

Property Number: 77200230050

Status: Unutilized

Reasons: Secured Area; Extensive deterioration

Bldgs. 239, 240

Naval Air Station

Meridian Co: Lauderdale MS 39309-

Landholding Agency: Navy

Property Number: 77200240060

Status: Unutilized

Reason: Secured Area

Bldg. 248

Naval Air Station

Meridian Co: Lauderdale MS 39309-

Landholding Agency: Navy

Property Number: 77200240061

Status: Unutilized

Reason: Secured Area

Bldg. 412

Naval Air Station

Meridian Co: Lauderdale MS 39309-

Landholding Agency: Navy

Property Number: 77200240062

Status: Unutilized

Reason: Secured Area

Bldgs. 239, 240

Naval Air Station

Meridian Co: Lauderdale MS 39309-

Landholding Agency: Navy

Property Number: 77200310033

Status: Unutilized

Reason: Secured Area

Bldg. 248

Naval Air Station

Meridian Co: Lauderdale MS 39309-

Landholding Agency: Navy

Property Number: 77200310034

Status: Unutilized

Reason: Secured Area

Bldg. 412

Naval Air Station

Meridian Co: Lauderdale MS 39309-

Landholding Agency: Navy

Property Number: 77200310035

Status: Unutilized

Reason: Secured Area

Natchez Moorings

82 L.E. Berry Road

Natchez Co: Adams MS 39121-

Landholding Agency: DOT

Property Number: 87199340002

Status: Unutilized

Reason: Extensive deterioration

New Hampshire

Bldg. 40

Portsmouth Naval Shipyard

Portsmouth Co: NH 03804-5000

Landholding Agency: Navy

Property Number: 77200240031

Status: Excess

Reasons: Within 2000 ft. of flammable or explosive material; Secured Area

New Jersey

Former NIKE Missile Battery

Site PH-58

Woolwich Co: Gloucester NJ

Landholding Agency: GSA

Property Number: 54200310012

Status: Excess

Reason: Extensive deterioration

GSA Number : 1-GR-NJ-0538

Bldg. 188

Naval Air Engineering Station

Lakehurst Co: Ocean NJ 08733-5000

Landholding Agency: Navy

Property Number: 77199830065

Status: Unutilized

Reason: Extensive deterioration

Bldg. 473

Naval Air Engineering Station

Lakehurst Co: Ocean NJ 08733-5000

Landholding Agency: Navy

Property Number: 77199920024

Status: Unutilized

Reason: Extensive deterioration

4 Bldgs.

Naval Air Engineering Station

26, 75, 126, 303

Lakehurst Co: Ocean NJ 08733-5000

Landholding Agency: Navy

Property Number: 77200240059

Status: Unutilized

Reason: Extensive deterioration

Piers and Wharf

Station Sandy Hook

Highlands Co: Monmouth NJ 07732-5000

Landholding Agency: DOT

Property Number: 87199240009

Status: Unutilized

Reasons: Secured Area; Extensive deterioration

Chapel Hill Front Range Light Tower

Middletown Co: Monmouth NJ 07748-

Landholding Agency: DOT

Property Number: 87199440002

Status: Unutilized

Reason: Skeletal tower

Bldg. 103

U.S. Coast Guard Station Sandy Hook

Middleton Co: Monmouth NJ 07737-

Landholding Agency: DOT

Property Number: 87199610002

Status: Unutilized

Reason: Secured Area

Ship Stg. Bldg.

USCG Training Center

Cape May Co: NJ 08204-5002

Landholding Agency: DOT

Property Number: 87200110018

Status: Excess

Reason: Secured Area

Exchange Whse

USCG Training Center

Cape May Co: NJ 08204-5002

Landholding Agency: DOT

Property Number: 87200110019

Status: Excess

Reason: Secured Area

Patrol Boat Bldg.

USCG Training Center

Cape May Co: NJ 08204-5002

Landholding Agency: DOT

Property Number: 87200110020

Status: Excess

Reason: Secured Area

Station Bldg.

USCG Training Center

Cape May Co: NJ 08204-5002

Landholding Agency: DOT

Property Number: 87200110021

Status: Excess

Reason: Secured Area

ANT Bldg.

USCG Training Center

Cape May Co: NJ 08204-5002

Landholding Agency: DOT

Property Number: 87200110022

Status: Excess

Reason: Secured Area

Quarters C

USCG Training Center

Cape May Co: NJ 08204-5002

Landholding Agency: DOT

Property Number: 87200120012

Status: Excess

Reason: Secured Area

Central Heating Plant

USCG Training Center

Cape May Co: NJ 08204-5002

Landholding Agency: DOT

Property Number: 87200120013

Status: Excess

Reason: Secured Area

Hangar/Shop

USCG Training Center

Cape May Co: NJ 08204-5002

Landholding Agency: DOT

Property Number: 87200120014

Status: Excess

Reason: Secured Area

Bldg. 195

U.S. Coast Guard

Cape May Co: NJ 08204-5002

Landholding Agency: DOT

Property Number: 87200220001

Status: Excess

Reason: Secured Area

Bldg. 204

U.S. Coast Guard

Cape May Co: NJ 08204-5002

Landholding Agency: DOT

Property Number: 87200220002

Status: Excess

Reason: Secured Area

Bldg. 208

U.S. Coast Guard

Cape May Co: NJ 08204-5002

Landholding Agency: DOT

Property Number: 87200220003

Status: Excess

Reason: Secured Area

Bldg. 209

U.S. Coast Guard

Cape May Co: NJ 08204-5002

Landholding Agency: DOT

Property Number: 87200220004

Status: Excess

Reason: Secured Area

Sheds OV1, OV2, OV3

U.S. Coast Guard

Shark River

Avon by the Sea Co: Monmouth NJ 13640-

Landholding Agency: DOT

Property Number: 87200240001

Status: Unutilized

Reason: Secured Area

Unit 13

USCG Station Barnegat Light

Station Barnegat Co: Ocean NJ

Landholding Agency: DOT

Property Number: 87200240002

Status: Unutilized

Reason: Secured Area

Units 9-12

USCG Station Barnegat Light

Station Barnegat Co: Ocean NJ

Landholding Agency: DOT

Property Number: 87200240003

Status: Unutilized

Reason: Secured Area

Bldg. 019

Coast Guard Training Center

Cape May Co: NJ 08204-

Landholding Agency: DOT

Property Number: 87200310003

Status: Excess

Reasons: Secured Area; Extensive deterioration

Bldg. 022

Coast Guard Training Center

Cape May Co: NJ 08204-

Landholding Agency: DOT

Property Number: 87200310004

Status: Excess

Reasons: Secured Area; Extensive deterioration

Bldg. 192

Coast Guard Training Center

Cape May Co: NJ 08204-

Landholding Agency: DOT

Property Number: 87200310005

Status: Excess

Reasons: Secured Area; Extensive deterioration

Bldg. 193

Coast Guard Training Center

Cape May Co: NJ 08204-

Landholding Agency: DOT

Property Number: 87200310006

Status: Excess

Reasons: Secured Area; Extensive deterioration

Bldg. 207

Coast Guard Training Center

Cape May Co: NJ 08204-

Landholding Agency: DOT

Property Number: 87200310007

Status: Excess

Reasons: Secured Area; Extensive deterioration

New Mexico

Bldg. N149

Naval Air Warfare

White Sands Co: NM 88002-

Landholding Agency: Navy

Property Number: 77200110104

Status: Excess

Reason: Extensive deterioration

New York

2 Buildings

Ant Saugerties

Saugerties Co: Ulster NY 12477-

Landholding Agency: DOT

Property Number: 87199230005

Status: Unutilized

Reason: Extensive deterioration

Bldg. 606, Fort Totten

New York Co: Queens NY 11359-

Landholding Agency: DOT

Property Number: 87199240020

Status: Unutilized

Reason: Secured Area

Bldg. 607, Fort Totten

New York Co: Queens NY 11359-

Landholding Agency: DOT

Property Number: 87199240021

Status: Unutilized

Reasons: Extensive deterioration; Secured Area;

Bldg. 605, Fort Totten

New York Co: Queens NY 11359-

Landholding Agency: DOT

Property Number: 87199240022

Status: Unutilized

Reasons: Extensive deterioration; Secured Area

Eatons Neck Station

U.S. Coast Guard

Huntington Co: Suffolk NY 11743-

Landholding Agency: DOT

Property Number: 87199310003

Status: Unutilized

Reasons: Secured Area; Extensive deterioration

Bldg. 517, USCG Support Center

Governors Island Co: Manhattan NY 10004-

Landholding Agency: DOT

Property Number: 87199320025

Status: Unutilized

Reason: Secured Area

Bldg. 138

U.S. Coast Guard Support Center

Governors Island Co: Manhattan NY 10004-

Landholding Agency: DOT

Property Number: 87199410003

Status: Unutilized

Reason: Secured Area

Bldg. 830

U.S. Coast Guard

Governors Island Co: Manhattan NY 10004-

Landholding Agency: DOT

Property Number: 87199420004

Status: Unutilized

Reason: Secured Area

Bldg. 8

Rosebank—Coast Guard Housing

Staten Island Co: Richmond NY 10301-

Landholding Agency: DOT

Property Number: 87199530009

Status: Unutilized

Reason: Secured Area

Bldg. 7

Rosebank—Coast Guard Housing

Staten Island Co: Richmond NY 10301-

Landholding Agency: DOT

Property Number: 87199530010

Status: Unutilized

Reasons: Secured Area; Extensive deterioration

Bldg. 222

Fort Wadsworth

Staten Island Co: Richmond NY 10305-

Landholding Agency: DOT

Property Number: 87199620003

Status: Unutilized

Reason: Secured Area

Bldg. 223

Fort Wadsworth

Staten Island Co: Richmond NY 10305-

Landholding Agency: DOT

Property Number: 87199620004

Status: Unutilized

Reason: Secured Area

Bldg. 205

Fort Wadsworth

Staten Island Co: Richmond NY 10305-

Landholding Agency: DOT

Property Number: 87199620005

Status: Unutilized

Reason: Secured Area

Bldg. 9

U.S. Coast Guard—Rosebank

Staten Island Co: Richmond NY 10301-

Landholding Agency: DOT

Property Number: 87199630027

Status: Excess

Reason: Secured Area

Bldg. 10

U.S. Coast Guard—Rosebank

Staten Island Co: Richmond NY 10301-

Landholding Agency: DOT

Property Number: 87199630028

Status: Excess

Reason: Secured Area

Bldg. 206, Rosebank

Staten Island Co: Richmond NY 10301-

Landholding Agency: DOT

Property Number: 87199630029

Status: Excess

Reason: Secured Area

Bldg. OG2

Coast Guard Station

Alexandria Bay Co: Jefferson NY 13640-

Landholding Agency: DOT

Property Number: 87200210021

Status: Unutilized

Reason: Secured Area

North Carolina

Bldg. AS-4040

Marine Corps Air Station

New River Co: NC

Landholding Agency: Navy

Property Number: 77200210039

Status: Underutilized

Reason: Secured Area

Group Cape Hatteras

Boiler Plant

Buxton Co: Dare NC 27902-0604

Landholding Agency: DOT

Property Number: 87199240018

Status: Unutilized

Reason: Secured Area

Group Cape Hatteras

Bowling Alley

Buxton Co: Dare NC 27902-0604

Landholding Agency: DOT

Property Number: 87199240019

Status: Unutilized

Reason: Secured Area

Bldg. 54

Group Cape Hatteras

Buxton Co: Dare NC 27902-0604

Landholding Agency: DOT

Property Number: 87199340004

Status: Unutilized

Reason: Secured Area

Bldg. 83

Group Cape Hatteras

Buxton Co: Dare NC 27902-0604

Landholding Agency: DOT

Property Number: 87199340005

Status: Unutilized

Reason: Secured Area

Water Tanks

Group Cape Hatteras

Buxton Co: Dare NC 27902-0604

Landholding Agency: DOT

Property Number: 87199340006

Status: Unutilized

Reason: Secured Area

USCG Gentian (WLB 290)

Fort Macon State Park

Atlantic Beach Co: Carteret NC 27601-

Landholding Agency: DOT

Property Number: 87199420007

Status: Excess

Reason: Secured Area

Unit #71

Buxton Annex, Cape Kendrick Circle

Buxton Co: Dare NC 27920-

Landholding Agency: DOT

Property Number: 87199530011

Status: Unutilized

Reason: Floodway

Unit #72

Buxton Annex, Cape Kendrick Circle

Buxton Co: Dare NC 27920-

Landholding Agency: DOT

Property Number: 87199530012

Status: Unutilized

Reason: Floodway

Unit #73

Buxton Annex, Cape Kendrick Circle

Buxton Co: Dare NC 27920-

Landholding Agency: DOT

Property Number: 87199530013

Status: Unutilized

Reason: Floodway

Unit #74

Buxton Annex, Cape Kendrick Circle

Buxton Co: Dare NC 27920-

Landholding Agency: DOT

Property Number: 87199530014

Status: Unutilized

Reason: Floodway

Unit #75

Buxton Annex, Cape Kendrick Circle

Buxton Co: Dare NC 27920-

Landholding Agency: DOT

Property Number: 87199530015

Status: Unutilized

Reason: Floodway

Unit #63

Buxton Annex, Anna May Court

Buxton Co: Dare NC 27920-

Landholding Agency: DOT

Property Number: 87199530016

Status: Unutilized

Reason: Floodway

Unit #64

Buxton Annex, Anna May Court

Buxton Co: Dare NC 27920-

Landholding Agency: DOT

Property Number: 87199530017

Status: Unutilized

Reason: Floodway

Unit #76

Buxton Annex, Anna May Court

Buxton Co: Dare NC 27920-

Landholding Agency: DOT

Property Number: 87199530018

Status: Unutilized

Reason: Floodway

Unit #68

Buxton Annex, Anna May Court

Buxton Co: Dare NC 27920-

Landholding Agency: DOT

Property Number: 87199530019

Status: Unutilized

Reason: Floodway

Unit #69

Buxton Annex, Anna May Court

Buxton Co: Dare NC 27920-

Landholding Agency: DOT

Property Number: 87199530020

Status: Unutilized

Reason: Floodway

Unit #70

Buxton Annex, Anna May Court

Buxton Co: Dare NC 27920-

Landholding Agency: DOT

Property Number: 87199530021

Status: Unutilized

Reason: Floodway

Unit #77

Buxton Annex, Old Lighthouse Road

Buxton Co: Dare NC 27920-

Landholding Agency: DOT

Property Number: 87199530022

Status: Unutilized

Reason: Floodway

Unit #78

Buxton Annex, Old Lighthouse Road

Buxton Co: Dare NC 27920-

Landholding Agency: DOT

Property Number: 87199530023

Status: Unutilized

Reason: Floodway

Bldg. 53

Coast Guard Support Center

Elizabeth City Co: Pasquotank NC 27909-5006

Landholding Agency: DOT

Property Number: 87199630022

Status: Unutilized

Reason: Secured Area

Bldg. OV1 (033)

USCG Cape Hatteras

Buxton Co: Dare NC 27902-0604

Landholding Agency: DOT

Property Number: 87200210012

Status: Underutilized

Reason: Secured Area

Storage Bldg.

USCG Loran Station

Carolina Beach Co: New Hanover NC

Landholding Agency: DOT

Property Number: 87200210013

Status: Underutilized

Reason: Secured Area

Frying Pan Schoals Light

USCG

Cape Fear Co: NC

Landholding Agency: DOT

Property Number: 87200240004

Status: Unutilized

Reason: Secured Area

Diamond Shoals Light

USCG

Cape Hatteras Co: NC

Landholding Agency: DOT

Property Number: 87200240005

Status: Unutilized

Reason: Secured Area

Ohio

Modular Ofc. Bldg.

RMI

Ashtabula Co: OH 44004-

Landholding Agency: Energy

Property Number: 41200310008

Status: Excess

Reason: Contamination

Modular Lab Bldg.

RMI

Ashtabula Co: OH 44004-

Landholding Agency: Energy

Property Number: 41200310009

Status: Excess

Reason: Contamination

Soil Storage Bldg.

RMI

Ashtabula Co: OH 44004-

Landholding Agency: Energy

Property Number: 41200310010

Status: Excess

Reason: Contamination

Soil Washing Bldg.

RMI

Ashtabula Co: OH 44004-

Landholding Agency: Energy

Property Number: 41200310011

Status: Excess

Reason: Contamination

Bldg. 16B

Fernald Env. Mgmt. Proj.

Hamilton Co: Butler OH 45013-

Landholding Agency: Energy

Property Number: 41200310012

Status: Excess

Reasons: Contamination; Secured Area

Bldg. 24C

Fernald Env. Mgmt. Proj.

Hamilton Co: Butler OH 45013-

Landholding Agency: Energy

Property Number: 41200310013

Status: Excess

Reasons: Contamination; Secured Area

Bldg. 25K

Fernald Env. Mgmt. Proj.

Hamilton Co: Butler OH 45013-

Landholding Agency: Energy

Property Number: 41200310014

Status: Excess

Reasons: Contamination; Secured Area

Bldg. 50

Fernald Env. Mgmt. Proj.

Hamilton Co: Butler OH 45013-

Landholding Agency: Energy

Property Number: 41200310015

Status: Excess

Reasons: Contamination; Secured Area

Bldg. 52A

Fernald Env. Mgmt. Proj.

Hamilton Co: Butler OH 45013-

Landholding Agency: Energy

Property Number: 41200310016

Status: Excess

Reasons: Contamination; Secured Area

Bldg. 52B

Fernald Env. Mgmt. Proj.

Hamilton Co: Butler OH 45013-

Landholding Agency: Energy

Property Number: 41200310017

Status: Excess

Reasons: Contamination; Secured Area

Oregon

Bldg. 30

Naval Weapons Systems Training

Boardman Co: Morrow OR

Landholding Agency: Navy

Property Number: 77200210070

Status: Unutilized

Reason: Secured Area

Bldg. 31

Naval Weapons Systems Training

Boardman Co: Morrow OR -

Landholding Agency: Navy

Property Number: 77200210071

Status: Unutilized

Reason: Secured Area

Bldg. 32

Naval Weapons Systems Training

Boardman Co: Morrow OR

Landholding Agency: Navy

Property Number: 77200210072

Status: Unutilized

Reason: Secured Area

Bldg. 33

Naval Weapons Systems Training

Boardman Co: Morrow OR

Landholding Agency: Navy

Property Number: 77200210073

Status: Unutilized

Reason: Secured Area

Bldg. 35

Naval Weapons Systems Training

Boardman Co: Morrow OR

Landholding Agency: Navy

Property Number: 77200210074

Status: Unutilized

Reason: Secured Area

Bldg. 37

Naval Weapons Systems Training

Boardman Co: Morrow OR

Landholding Agency: Navy

Property Number: 77200210075

Status: Unutilized

Reason: Secured Area

Pennsylvania

Bldg. 43

Naval Foundry & Propeller Center

Philadelphia Co: PA 19112-

Landholding Agency: Navy

Property Number: 77200210015

Status: Excess

Reason: Extensive deterioration

Bldg. 53

Naval Foundry & Propeller Center

Philadelphia Co: PA 19112-

Landholding Agency: Navy

Property Number: 77200210016

Status: Excess

Reason: Extensive deterioration

Bldg. 483

Naval Surface Warfare Center

Philadelphia Co: PA 19111-2

Landholding Agency: Navy

Property Number: 77200210082

Status: Excess

Reason: Within 2000 ft. of flammable or explosive material

Bldg. 530

Naval Surface Warfare Center

Philadelphia Co: PA 19112-

Landholding Agency: Navy

Property Number: 77200210083

Status: Excess

Reason: Within 2000 ft. of flammable or explosive material

Bldg. 615

Naval Surface Warfare Center

Philadelphia Co: PA 19112-

Landholding Agency: Navy

Property Number: 77200210084

Status: Excess

Reason: Within 2000 ft. of flammable or explosive material

Bldg. 618

Naval Surface Warfare Center

Philadelphia Co: PA 19112-

Landholding Agency: Navy

Property Number: 77200210085

Status: Excess

Reason: Within 2000 ft. of flammable or explosive material

Bldg. 743

Naval Surface Warfare Center

Philadelphia Co: PA 19112-

Landholding Agency: Navy

Property Number: 77200210086

Status: Excess

Reason: Within 2000 ft. of flammable or explosive material

Bldg. 13

Naval Support Activity

Mechanicsburg Co: Cumberland PA 17055-0788

Landholding Agency: Navy

Property Number: 77200220014

Status: Excess

Reason: Extensive deterioration

Bldg. 311

Naval Support Activity

Mechanicsburg Co: Cumberland PA 17055-0788

Landholding Agency: Navy

Property Number: 77200220015

Status: Excess

Reason: Extensive deterioration

Bldg. 608-C

Naval Support Activity

Mechanicsburg Co: Cumberland PA 17055-0788

Landholding Agency: Navy

Property Number: 77200220016

Status: Excess

Reason: Extensive deterioration

Bldg. 220009

Naval Support Activity

Philadelphia Co: PA 19111-5098

Landholding Agency: Navy

Property Number: 77200240046

Status: Excess

Reasons: Secured Area

Extensive deterioration

Puerto Rico

B-38

Naval Station Roosevelt Roads

Ceiba PR 00735-

Landholding Agency: Navy

Property Number: 77199830075

Status: Unutilized

Reason: Extensive deterioration

NAFA Warehouse

U.S. Coast Guard Air Station Borinquen

Aquadilla PR 00604-

Landholding Agency: DOT

Property Number: 87199310011

Status: Unutilized

Reason: Secured Area

Storage Equipment Bldg.

U.S. Coast Guard Air Station Borinquen

Aquadilla PR 00604-

Landholding Agency: DOT

Property Number: 87199330001

Status: Unutilized

Reason: Secured Area

Bldg. 115

U.S. Coast Guard Base

San Juan PR 00902-2029

Landholding Agency: DOT

Property Number: 87199510001

Status: Unutilized

Reason: Secured Area

Bldg. 117

U.S. Coast Guard Base

San Juan PR 00902-2029

Landholding Agency: DOT

Property Number: 87199510002

Status: Unutilized

Reason: Secured Area

Bldg. 118

U.S. Coast Guard Base

San Juan PR 00902-2029

Landholding Agency: DOT

Property Number: 87199510003

Status: Unutilized

Reason: Secured Area

Bldg. 119

U.S. Coast Guard Base

San Juan PR 00902-2029

Landholding Agency: DOT

Property Number: 87199510004

Status: Unutilized

Reason: Secured Area

Bldg. 120

U.S. Coast Guard Base

San Juan PR 00902-2029

Landholding Agency: DOT

Property Number: 87199510005

Status: Unutilized

Reason: Secured Area

Bldg. 122

U.S. Coast Guard Base

San Juan PR 00902-2029

Landholding Agency: DOT

Property Number: 87199510006

Status: Unutilized

Reason: Secured Area

Bldg. 128

U.S. Coast Guard Base

San Juan PR 00902-2029

Landholding Agency: DOT

Property Number: 87199510007

Status: Unutilized

Reason: Secured Area

Bldg. 129

U.S. Coast Guard Base

San Juan PR 00902-2029

Landholding Agency: DOT

Property Number: 87199510008

Status: Unutilized

Reason: Secured Area

Rhode Island

Bldg. 52

Gould Island, Naval Station

Newport Co: RI 00000-

Landholding Agency: Navy

Property Number: 77199930020

Status: Excess

Reasons: Not accessible by road; Extensive deterioration

Station Point Judith Pier

Narranganset Co: Washington RI 02882-

Landholding Agency: DOT

Property Number: 87199310002

Status: Unutilized

Reason: Extensive deterioration

South Carolina

Bldg. 49

Naval Public Works Center

Goose Creek Co: Berkeley SC 29445-

Landholding Agency: Navy

Property Number: 77200020062

Status: Unutilized

Reasons: Secured Area; Extensive deterioration

Bldg. 7

Naval Weapons Station

Goose Creek Co: Berkeley SC 29445-

Landholding Agency: Navy

Property Number: 77200040030

Status: Unutilized

Reason: Secured Area

Bldg. 314

Naval Weapons Station

Goose Creek Co: Berkeley SC 29445-

Landholding Agency: Navy

Property Number: 77200040031

Status: Unutilized

Reason: Secured Area

16 Bldgs.

Naval Weapons Station

Goose Creek Co: Berkeley SC 29445-

Location: 294, 297, 316, 319, 710, 991, 3510, 3534, 3542, 3550, 3590, 3580, 3582, 3584, 3588, 3592

Landholding Agency: Navy

Property Number: 77200210106

Status: Excess

Reasons: Within 2000 ft. of flammable or explosive material; Secured Area

Tennessee

20 Bldgs.

Naval Support Activity

Millington Co: Shelby TN 38054-

Location: 766, 1597-1598, 5238, 435-446, S239, S75, 1211, 1379

Landholding Agency: Navy

Property Number: 77199940027

Status: Excess

Reasons: Secured Area; Extensive deterioration

6 Bldgs.

Naval Support Activity

#2003, 2016, 2024, 2025, 2076, 2077

Millington Co: TN 38054-

Landholding Agency: Navy

Property Number: 77200120013

Status: Excess

Reason: Secured Area

Bldg. R23-99

Naval Support Activity

Millington Co: TN 38054-

Landholding Agency: Navy

Property Number: 77200130104

Status: Excess

Reason: Secured Area

5 Bldgs.

Naval Support Activity

Millington Co: TN 38054-

Landholding Agency: Navy

Property Number: 77200130105

Status: Excess

Reason: Secured Area

23 Bldgs.

Naval Support Activity

Wherry Housing

Millington Co: TN 38054-

Location: 2004, 2019, 2021, 2023, 2026-2028, 2030, 2036, 2038, 2040, 2042, 2058, 2062, 2073, 2075, 2078, 2084, 2087, 2095, 2100, 2102, 2104

Landholding Agency: Navy

Property Number: 77200230042

Status: Excess

Reason: Secured Area

Bldg. 5

Navy Surface Warfare

Memphis Co: Shelby TN 38113-

Landholding Agency: Navy

Property Number: 77200230056

Status: Unutilized

Reason: Secured Area

Bldg. 11

Navy Surface Warfare

Memphis Co: Shelby TN 38113-

Landholding Agency: Navy

Property Number: 77200230057

Status: Unutilized

Reason: Secured Area

Texas

Bldgs. 1561, 1562, 1563

Naval Air Station Joint Reserve Base

Ft. Worth Co: Tarrant TX 76127-6200

Landholding Agency: Navy

Property Number: 77199820050

Status: Unutilized

Reasons: Secured Area; Extensive deterioration

Bldg. 1190

Naval Air Station Joint Reserve Base

Ft. Worth Co: Tarrant TX 76127-6200

Landholding Agency: Navy

Property Number: 77199820053

Status: Unutilized

Reason: Secured Area

Bldg. 1820

Naval Air Station Joint Reserve Base

Ft. Worth Co: Tarrant TX 76127-6200

Landholding Agency: Navy

Property Number: 77199820054

Status: Unutilized

Reasons: Secured AreaExtensive deterioration

;

Bldg. 1504

Naval Air Station

Joint Reserve Base

Ft. Worth Co: Tarrant TX 76127-6200

Landholding Agency: Navy

Property Number: 77200110018

Status: Unutilized

Reason: Extensive deterioration

Facility 119

Naval Air Station

Corpus Christi Co: Nueces TX 78419-5021

Landholding Agency: Navy

Property Number: 77200110047

Status: Excess

Reasons: Within airport runway clear zone; Secured Area; Extensive deterioration

Bldg. 1149

Naval Air Station

Ft. Worth Co: Tarrant TX 76127-6200

Landholding Agency: Navy

Property Number: 77200120014

Status: Unutilized

Reason: Extensive deterioration

Bldg. 4200

Naval Air Station

Ft. Worth Co: Tarrant TX 76127-6200

Landholding Agency: Navy

Property Number: 77200120015

Status: Unutilized

Reason: Extensive deterioration

Bldg. 1173

Naval Air Station

Ft. Worth Co: Tarrant TX 76127-6200

Landholding Agency: Navy

Property Number: 77200120016

Status: Unutilized

Reason: Extensive deterioration

Bldg. 1268

Naval Air Station

Ft. Worth Co: Tarrant TX 76127-6200

Landholding Agency: Navy

Property Number: 77200120017

Status: Unutilized

Reason: Extensive deterioration

Bldg. 1837

Naval Air Station

Ft. Worth Co: Tarrant TX 76127-6200

Landholding Agency: Navy

Property Number: 77200120018

Status: Unutilized

Reason: Extensive deterioration

Bldg. 1346

Naval Air Station

Ft. Worth Co: Tarrant TX 76127-

Landholding Agency: Navy

Property Number: 77200120156

Status: Excess

Reasons: Secured Area; Extensive deterioration

Facility 16

Naval Air Station

Corpus Christi Co: Nueces TX 78419-5021

Landholding Agency: Navy

Property Number: 77200130085

Status: Excess

Reason: Extensive deterioration

Facility 23

Naval Air Station

Corpus Christi Co: Nueces TX 78419-5021

Landholding Agency: Navy

Property Number: 77200130086

Status: Excess

Reason: Extensive deterioration

Facility 32

Naval Air Station

Corpus Christi Co: Nueces TX 78419-5021

Landholding Agency: Navy

Property Number: 77200130087

Status: Excess

Reason: Extensive deterioration

Facility 52A

Naval Air Station

Corpus Christi Co: Nueces TX 78419-5021

Landholding Agency: Navy

Property Number: 77200130088

Status: Excess

Reason: Extensive deterioration

Facility 52B

Naval Air Station

Corpus Christi Co: Nueces TX 78419-5021

Landholding Agency: Navy

Property Number: 77200130089

Status: Excess

Reason: Extensive deterioration

Facility 52C

Naval Air Station

Corpus Christi Co: Nueces TX 78419-5021

Landholding Agency: Navy

Property Number: 77200130090

Status: Excess

Reason: Extensive deterioration

Facility 52D

Naval Air Station

Corpus Christi Co: Nueces TX 78419-5021

Landholding Agency: Navy

Property Number: 77200130091

Status: Excess

Reason: Extensive deterioration

Facility 52E

Naval Air Station

Corpus Christi Co: Nueces TX 78419-5021

Landholding Agency: Navy

Property Number: 77200130092

Status: Excess

Reason: Extensive deterioration

Facility 168

Naval Air Station

Corpus Christi Co: Nueces TX 78419-5021

Landholding Agency: Navy

Property Number: 77200130093

Status: Excess

Reason: Extensive deterioration

Facility 306

Naval Air Station

Corpus Christi Co: Nueces TX 78419-5021

Landholding Agency: Navy

Property Number: 77200130094

Status: Excess

Reason: Extensive deterioration

Facility 330

Naval Air Station

Corpus Christi Co: Nueces TX 78419-5021

Landholding Agency: Navy

Property Number: 77200130095

Status: Excess

Reason: Extensive deterioration

Facility 372

Naval Air Station

Corpus Christi Co: Nueces TX 78419-5021

Landholding Agency: Navy

Property Number: 77200130096

Status: Excess

Reason: Extensive deterioration

Facility 383

Naval Air Station

Corpus Christi Co: Nueces TX 78419-5021

Landholding Agency: Navy

Property Number: 77200130097

Status: Excess

Reason: Extensive deterioration

Facility 1233

Naval Air Station

Corpus Christi Co: Nueces TX 78419-5021

Landholding Agency: Navy

Property Number: 77200130098

Status: Excess

Reason: Extensive deterioration

Facility 3589

Naval Air Station

Corpus Christi Co: Nueces TX 78419-5021

Landholding Agency: Navy

Property Number: 77200130099

Status: Excess

Reason: Extensive deterioration

Bldg. 1298

Naval Air Station

Corpus Christi Co: Nueces TX 78419-5021

Landholding Agency: Navy

Property Number: 77200130100

Status: Excess

Reason: Extensive deterioration

Bldg. 1825

Naval Air Station

Ft. Worth Co: Tarrant TX 76127-

Landholding Agency: Navy

Property Number: 77200220025

Status: Unutilized

Reasons: Secured Area; Extensive deterioration

Bldgs. 262 & 263

Naval Air Station

Ft. Worth Co: Tarrant TX 76127-

Landholding Agency: Navy

Property Number: 77200220026

Status: Unutilized

Reasons: Secured Area; Extensive deterioration

Bldg. 1082

Naval Air Station

Ft. Worth Co: Tarrant TX 76127-

Landholding Agency: Navy

Property Number: 77200240047

Status: Unutilized

Reason: Extensive deterioration

Bldg. 1078

Naval Air Station

Ft. Worth Co: Tarrant TX 76127-

Landholding Agency: Navy

Property Number: 77200240048

Status: Unutilized

Reason: Extensive deterioration

Bldg. 1080

Naval Air Station

Ft. Worth Co: Tarrant TX 76127-

Landholding Agency: Navy

Property Number: 77200240049

Status: Unutilized

Reason: Extensive deterioration

Bldg. 1241

Naval Air Station

Ft. Worth Co: Tarrant TX 76127-

Landholding Agency: Navy

Property Number: 77200240050

Status: Unutilized

Reason: Extensive deterioration

Bldg. 1828

Naval Air Station

Ft. Worth Co: Tarrant TX 76127-

Landholding Agency: Navy

Property Number: 77200240051

Status: Unutilized

Reason: Extensive deterioration

Bldg. 3340

Naval Air Station

Ft. Worth Co: Tarrant TX 76127-

Landholding Agency: Navy

Property Number: 77200240052

Status: Unutilized

Reason: Extensive deterioration

Old Exchange Bldg.

U.S. Coast Guard

Galveston Co: Galveston TX 77553-3001

Landholding Agency: DOT

Property Number: 87199310012

Status: Unutilized

Reason: Secured Area

WPB Building

Station Port Isabel Coast Guard Station

South Padre Island Co: Cameron TX 78597-6497

Landholding Agency: DOT

Property Number: 87199530002

Status: Unutilized

Reason: Floodway

Aton Shops Building

USCG Station Sabine

Sabine Co: Jefferson TX 77655-

Landholding Agency: DOT

Property Number: 87199530003

Status: Unutilized

Reasons: Within 2000 ft. of flammable or explosive material; Secured Area

WPB Storage Shed

USCG Station Sabine

Sabine Co: Jefferson TX 77655-

Landholding Agency: DOT

Property Number: 87199530004

Status: Unutilized

Reasons: Within 2000 ft. of flammable or explosive material; Secured Area

Flammable Storage Building

USCG Station Sabine

Sabine Co: Jefferson TX 77655-

Landholding Agency: DOT

Property Number: 87199530005

Status: Unutilized

Reasons: Within 2000 ft. of flammable or explosive material; Secured Area

Battery Storage Building

USCG Station Sabine

Sabine Co: Jefferson TX 77655-

Landholding Agency: DOT

Property Number: 87199530006

Status: Unutilized

Reasons: Within 2000 ft. of flammable or explosive material; Secured Area

Boat House

USCG Station Sabine

Sabine Co: Jefferson TX 77655-

Landholding Agency: DOT

Property Number: 87199530007

Status: Unutilized

Reasons: Within 2000 ft. of flammable or explosive material; Secured Area

Small Boat Pier

USCG Station Sabine

Sabine Co: Jefferson TX 77655-

Landholding Agency: DOT

Property Number: 87199530008

Status: Unutilized

Reasons: Within 2000 ft. of flammable or explosive material; Secured Area

Bldg. 108

Fort Crockett/43rd St. Housing

Galveston Co: Galveston TX 77553-

Landholding Agency: DOT

Property Number: 87199630008

Status: Unutilized

Reason: Extensive deterioration

Vermont

Depot Street

Downtown at the Waterfront

Burlington Co: Chittenden VT 05401-5226

Landholding Agency: DOT

Property Number: 87199220003

Status: Excess

Reason: Floodway

Virginia

Big Bethel Military Resv

Hampton Co: VA 23666-1432

Landholding Agency: GSA

Property Number: 54200310014

Status: Excess

Reason: Within 2000 ft. of flammable or explosive material

GSA Number : 4-D-VA-0733

Bldg. O2

Naval Weapons Station

Yorktown Co: York VA 23691-

Landholding Agency: Navy

Property Number: 77199810073

Status: Excess

Reason: Extensive deterioration

Bldgs. 358, 359

Cheatham Annex

Williamsburg VA 23185-

Landholding Agency: Navy

Property Number: 77199820023

Status: Excess

Reason: Extensive deterioration

Bldg. CAD-102

Cheatham Annex

Williamsburg VA 23185-

Landholding Agency: Navy

Property Number: 77199820025

Status: Excess

Reason: Extensive deterioration

Bldg. CAD-102A

Cheatham Annex

Williamsburg VA 23185-

Landholding Agency: Navy

Property Number: 77199820026

Status: Excess

Reason: Extensive deterioration

CAD-40

Cheatham Annex

Williamsburg VA 23185-

Landholding Agency: Navy

Property Number: 77199830084

Status: Unutilized

Reasons: Secured Area; Extensive deterioration

Bldg. 449

Norfolk Naval Shipyard

Portsmouth Co: VA 23709-

Landholding Agency: Navy

Property Number: 77199920068

Status: Excess

Reason: Extensive deterioration

Bldg. 450

Norfolk Naval Shipyard

Portsmouth Co: VA 23709-

Landholding Agency: Navy

Property Number: 77199920069

Status: Excess

Reason: Extensive deterioration

Bldg. 451

Norfolk Naval Shipyard

Portsmouth Co: VA 23709-

Landholding Agency: Navy

Property Number: 77199920070

Status: Excess

Reason: Extensive deterioration

Bldg. 453

Norfolk Naval Shipyard

Portsmouth Co: VA 23709-

Landholding Agency: Navy

Property Number: 77199920071

Status: Excess

Reason: Extensive deterioration

Bldg. 454

Norfolk Naval Shipyard

Portsmouth Co: VA 23709-

Landholding Agency: Navy

Property Number: 77199920072

Status: Excess

Reason: Extensive deterioration

Bldg. 708

Norfolk Naval Shipyard

Portsmouth Co: VA 23709-

Landholding Agency: Navy

Property Number: 77199920073

Status: Excess

Reason: Extensive deterioration

Bldg. 709

Norfolk Naval Shipyard

Portsmouth Co: VA 23709

Landholding Agency: Navy

Property Number: 77199920074

Status: Excess

Reason: Extensive deterioration

Bldg. 710

Norfolk Naval Shipyard

Portsmouth Co: VA 23709

Landholding Agency: Navy

Property Number: 77199920075

Status: Excess

Reason: Extensive deterioration

Bldg. 711

Norfolk Naval Shipyard

Portsmouth Co: VA 23709-

Landholding Agency: Navy

Property Number: 77199920076

Status: Excess

Reason: Extensive deterioration

Bldg. 712

Norfolk Naval Shipyard

Portsmouth Co: VA 23709-

Landholding Agency: Navy

Property Number: 77199920077

Status: Excess

Reason: Extensive deterioration

Bldg. 713

Norfolk Naval Shipyard

Portsmouth Co: VA 23709-

Landholding Agency: Navy

Property Number: 77199920078

Status: Excess

Reason: Extensive deterioration

Bldg. 714

Norfolk Naval Shipyard

Portsmouth Co: VA 23709-

Landholding Agency: Navy

Property Number: 77199920079

Status: Excess

Reason: Extensive deterioration

Bldg. 715

Norfolk Naval Shipyard

Portsmouth Co: VA 23709-

Landholding Agency: Navy

Property Number: 77199920080

Status: Excess

Reason: Extensive deterioration

Bldg. 716

Norfolk Naval Shipyard

Portsmouth Co: VA 23709-

Landholding Agency: Navy

Property Number: 77199920081

Status: Excess

Reason: Extensive deterioration

Bldg. 717

Norfolk Naval Shipyard

Portsmouth Co: VA 23709-

Landholding Agency: Navy

Property Number: 77199920082

Status: Excess

Reason: Extensive deterioration

Bldg. 718

Norfolk Naval Shipyard

Portsmouth Co: VA 23709-

Landholding Agency: Navy

Property Number: 77199920083

Status: Excess

Reason: Extensive deterioration

Bldg. 1454

Norfolk Naval Shipyard

Portsmouth Co: VA 23709-

Landholding Agency: Navy

Property Number: 77199920084

Status: Excess

Reason: Extensive deterioration

Bldg. 7

Naval Weapons Station

Yorktown Co: VA 23691-

Landholding Agency: Navy

Property Number: 77200020009

Status: Unutilized

Reasons: Within 2000 ft. of flammable or explosive material; Secured Area

Bldg. 12

Naval Weapons Station

Yorktown Co: VA 23691-

Landholding Agency: Navy

Property Number: 77200020010

Status: Unutilized

Reasons: Within 2000 ft. of flammable or explosive material; Secured Area; Extensive deterioration

Bldg. 24

Naval Weapons Station

Yorktown Co: VA 23691-

Landholding Agency: Navy

Property Number: 77200020011

Status: Unutilized

Reasons: Within 2000 ft. of flammable or explosive material; Secured Area

Bldg. 34

Naval Weapons Station

Yorktown Co: VA 23691-

Landholding Agency: Navy

Property Number: 77200020012

Status: Unutilized

Reasons: Within 2000 ft. of flammable or explosive material; Secured Area; Extensive deterioration

Bldg. 108

Naval Weapons Station

Yorktown Co: VA 23691-

Landholding Agency: Navy

Property Number: 77200020013

Status: Unutilized

Reasons: Within 2000 ft. of flammable or explosive material; Secured Area; Extensive deterioration

Bldg. 299

Naval Weapons Station

Yorktown Co: VA 23691-

Landholding Agency: Navy

Property Number: 77200020014

Status: Unutilized

Reasons: Within 2000 ft. of flammable or explosive material; Secured Area; Extensive deterioration

Bldg. 400

Naval Weapons Station

Yorktown Co: VA 23691-

Landholding Agency: Navy

Property Number: 77200020015

Status: Unutilized

Reasons: Within 2000 ft. of flammable or explosive material; Secured Area; Extensive deterioration

Bldg. 436

Naval Weapons Station

Yorktown Co: VA 23691-

Landholding Agency: Navy

Property Number: 77200020016

Status: Unutilized

Reasons: Within 2000 ft. of flammable or explosive material; Secured Area; Extensive deterioration

Bldgs. 442, 443

Naval Weapons Station

Yorktown Co: VA 23691-

Landholding Agency: Navy

Property Number: 77200020017

Status: Unutilized

Reasons: Within 2000 ft. of flammable or explosive material; Secured Area; Extensive deterioration

Bldg. 530

Naval Weapons Station

Yorktown Co: VA 23691-

Landholding Agency: Navy

Property Number: 77200020018

Status: Unutilized

Reasons: Within 2000 ft. of flammable or explosive material; Secured Area; Extensive deterioration

Bldg. 532

Naval Weapons Station

Yorktown Co: VA 23691-

Landholding Agency: Navy

Property Number: 77200020019

Status: Unutilized

Reasons: Within 2000 ft. of flammable or explosive material; Secured Area; Extensive deterioration

Bldgs. 646-651

Naval Weapons Station

Yorktown Co: VA 23691-

Landholding Agency: Navy

Property Number: 77200020020

Status: Unutilized

Reasons: Within 2000 ft. of flammable or explosive material; Secured Area; Extensive deterioration

Bldgs. 758, 759

Naval Weapons Station

Yorktown Co: VA 23691-

Landholding Agency: Navy

Property Number: 77200020021

Status: Unutilized

Reasons: Within 2000 ft. of flammable or explosive material; Secured Area; Extensive deterioration

Bldg. 764

Naval Weapons Station

Yorktown Co: VA 23691-

Landholding Agency: Navy

Property Number: 77200020022

Status: Unutilized

Reasons: Within 2000 ft. of flammable or explosive material; Secured Area; Extensive deterioration

Bldg. 784

Naval Weapons Station

Yorktown Co: VA 23691-

Landholding Agency: Navy

Property Number: 77200020023

Status: Unutilized

Reasons:

Within 2000 ft. of flammable or explosive material; Secured Area; Extensive deterioration

Bldg. 786

Naval Weapons Station Yorktown

Yorktown Co: VA 23691-

Landholding Agency: Navy

Property Number: 77200020024

Status: Unutilized

Reasons: Within 2000 ft. of flammable or explosive material; Secured Area; Extensive deterioration

Bldg. 788

Naval Weapons Station

Yorktown Co: VA 23691-

Landholding Agency: Navy

Property Number: 77200020025

Status: Unutilized

Reasons: Within 2000 ft. of flammable or explosive material; Secured Area; Extensive deterioration

Bldg. 790

Naval Weapons Station

Yorktown Co: VA 23691-

Landholding Agency: Navy

Property Number: 77200020026

Status: Unutilized

Reasons: Within 2000 ft. of flammable or explosive material; Secured Area; Extensive deterioration

Bldg. 814

Naval Weapons Station

Yorktown Co: VA 23691-

Landholding Agency: Navy

Property Number: 77200020027

Status: Unutilized

Reasons: Within 2000 ft. of flammable or explosive material; Secured Area; Extensive deterioration

Bldgs. 1955-1957

Naval Weapons Station

Yorktown Co: VA 23691-

Landholding Agency: Navy

Property Number: 77200020028

Status: Unutilized

Reasons: Within 2000 ft. of flammable or explosive material; Secured Area; Extensive deterioration

Bldgs. 1960, 1961, 1964

Naval Weapons Station

Yorktown Co: VA 23691-

Landholding Agency: Navy

Property Number: 77200020029

Status: Unutilized

Reasons: Within 2000 ft. of flammable or explosive material; Secured Area; Extensive deterioration

Bldgs. 1980, 1981

Naval Weapons Station

Yorktown Co: VA 23691-

Landholding Agency: Navy

Property Number: 77200020030

Status: Unutilized

Reasons: Within 2000 ft. of flammable or explosive material; Secured Area; Extensive deterioration

Bldg. 160

Cheatham Annex

Williamsburg Co: VA 23185-5830

Landholding Agency: Navy

Property Number: 77200020031

Status: Unutilized

Reasons: Secured Area; Extensive deterioration

Bldg. 1453

Norfolk Naval Shipyard

Portsmouth Co: VA 23709-5000

Landholding Agency: Navy

Property Number: 77200020063

Status: Unutilized

Reasons: Secured Area; Extensive deterioration

Bldg. 13

Naval Weapons Station

Yorktown Co: VA 23691-

Landholding Agency: Navy

Property Number: 77200120024

Status: Excess

Reasons: Within 2000 ft. of flammable or explosive material; Secured Area; Extensive deterioration

Bldg. 14

Naval Weapons Station

Yorktown Co: VA 23691-

Landholding Agency: Navy

Property Number: 77200120025

Status: Excess

Reasons: Within 2000 ft. of flammable or explosive material; Secured Area; Extensive deterioration

Bldg. 22

Naval Weapons Station

Yorktown Co: VA 23691-

Landholding Agency: Navy

Property Number: 77200120026

Status: Excess

Reasons: Within 2000 ft. of flammable or explosive material; Secured Area; Extensive deterioration

Bldg. 23

Naval Weapons Station

Yorktown Co: VA 23691-

Landholding Agency: Navy

Property Number: 77200120027

Status: Excess

Reasons: Within 2000 ft. of flammable or explosive material; Secured Area; Extensive deterioration

Bldg. 70

Naval Weapons Station

Yorktown Co: VA 23691-

Landholding Agency: Navy

Property Number: 77200120028

Status: Excess

Reasons: Within 2000 ft. of flammable or explosive material; Secured Area; Extensive deterioration

Bldg. 87

Naval Weapons Station

Yorktown Co: VA 23691-

Landholding Agency: Navy

Property Number: 77200120029

Status: Excess

Reasons: Within 2000 ft. of flammable or explosive material; Secured Area; Extensive deterioration

Bldg. 88

Naval Weapons Station

Yorktown Co: VA 23691-

Landholding Agency: Navy

Property Number: 77200120030

Status: Excess

Reasons: Within 2000 ft. of flammable or explosive material; Secured Area; Extensive deterioration

Bldg. 118

Naval Weapons Station

Yorktown Co: VA 23691-

Landholding Agency: Navy

Property Number: 77200120031

Status: Excess

Reasons: Within 2000 ft. of flammable or explosive material; Secured Area; Extensive deterioration

Bldg. 385

Naval Weapons Station

Yorktown Co: VA 23691-

Landholding Agency: Navy

Property Number: 77200120032

Status: Excess

Reasons: Within 2000 ft. of flammable or explosive material; Secured Area; Extensive deterioration

Bldg. 396A

Naval Weapons Station

Yorktown Co: VA 23691-

Landholding Agency: Navy

Property Number: 77200120033

Status: Excess

Reasons: Within 2000 ft. of flammable or explosive material; Secured Area; Extensive deterioration

Bldg. 492

Naval Weapons Station

Yorktown Co: VA 23691-

Landholding Agency: Navy

Property Number: 77200120034

Status: Excess

Reasons: Secured Area; Extensive deterioration

Bldg. 507

Naval Weapons Station

Yorktown Co: VA 23691-

Landholding Agency: Navy

Property Number: 77200120035

Status: Excess

Reasons: Within 2000 ft. of flammable or explosive material; Secured Area

Bldg. 612

Naval Weapons Station

Yorktown Co: VA 23691-

Landholding Agency: Navy

Property Number: 77200120036

Status: Excess

Reasons: Within 2000 ft. of flammable or explosive material; Secured Area; Extensive deterioration

Bldg. 1224

Naval Weapons Station

Yorktown Co: VA 23691-

Landholding Agency: Navy

Property Number: 77200120037

Status: Excess

Reasons: Within 2000 ft. of flammable or explosive material; Secured Area; Extensive deterioration

Bldg. 1225

Naval Weapons Station

Yorktown Co: VA 23691-

Landholding Agency: Navy

Property Number: 77200120038

Status: Excess

Reasons: Within 2000 ft. of flammable or explosive material; Secured Area; Extensive deterioration

Bldg. 1226

Naval Weapons Station

Yorktown Co: VA 23691-

Landholding Agency: Navy

Property Number: 77200120039

Status: Excess

Reasons: Within 2000 ft. of flammable or explosive material; Secured Area; Extensive deterioration

Bldg. 1227

Naval Weapons Station

Yorktown Co: VA 23691-

Landholding Agency: Navy

Property Number: 77200120040

Status: Excess

Reasons: Within 2000 ft. of flammable or explosive material; Secured Area; Extensive deterioration

Bldg. 1228

Naval Weapons Station

Yorktown Co: VA 23691-

Landholding Agency: Navy

Property Number: 77200120041

Status: Excess

Reasons: Within 2000 ft. of flammable or explosive material; Secured Area; Extensive deterioration

Bldg. 1587

Naval Weapons Station

Yorktown Co: VA 23691-

Landholding Agency: Navy

Property Number: 77200120042

Status: Excess

Reasons: Within 2000 ft. of flammable or explosive material; Secured Area; Extensive deterioration

Bldg. 1588

Naval Weapons Station

Yorktown Co: VA 23691-

Landholding Agency: Navy

Property Number: 77200120043

Status: Excess

Reasons: Within 2000 ft. of flammable or explosive material; Secured Area; Extensive deterioration

Bldg. 1589

Naval Weapons Station

Yorktown Co: VA 23691-

Landholding Agency: Navy

Property Number: 77200120044

Status: Excess

Reasons: Within 2000 ft. of flammable or explosive material; Secured Area; Extensive deterioration

Bldg. 1590

Naval Weapons Station

Yorktown Co: VA 23691-

Landholding Agency: Navy

Property Number: 77200120045

Status: Excess

Reasons: Within 2000 ft. of flammable or explosive material; Secured Area; Extensive deterioration

Bldg. 1591

Naval Weapons Station

Yorktown Co: VA 23691-

Landholding Agency: Navy

Property Number: 77200120046

Status: Excess

Reasons: Within 2000 ft. of flammable or explosive material; Secured Area; Extensive deterioration

Bldg. 1612

Naval Weapons Station

Yorktown Co: VA 23691-

Landholding Agency: Navy

Property Number: 77200120047

Status: Excess

Reasons: Secured Area; Extensive deterioration

Structure 1743

Naval Weapons Station

Yorktown Co: VA 23691-

Landholding Agency: Navy

Property Number: 77200120048

Status: Excess

Reasons: Within 2000 ft. of flammable or explosive material; Secured Area; Extensive deterioration

Bldg. 103B

Naval Weapons Station

Yorktown Co: VA 23691-

Landholding Agency: Navy

Property Number: 77200120049

Status: Excess

Reasons: Secured Area; Extensive deterioration

Bldg. B109

Naval Surface Warfare Center

Dalgren Co: King George VA 22448-

Landholding Agency: Navy

Property Number: 77200120050

Status: Unutilized

Reason: Extensive deterioration

Bldg. B112

Naval Surface Warfare Center

Dalgren Co: King George VA 22448-

Landholding Agency: Navy

Property Number: 77200120051

Status: Unutilized

Reason: Extensive deterioration

Bldg. 123

Naval Surface Warfare Center

Dalgren Co: King George VA 22448-

Landholding Agency: Navy

Property Number: 77200120052

Status: Unutilized

Reason: Extensive deterioration

Bldg. B132

Naval Surface Warfare Center

Dalgren Co: King George VA 22448-

Landholding Agency: Navy

Property Number: 77200120053

Status: Unutilized

Reason: Extensive deterioration

Bldg. B157

Naval Surface Warfare Center

Dalgren Co: King George VA 22448-

Landholding Agency: Navy

Property Number: 77200120054

Status: Unutilized

Reason: Extensive deterioration

Bldg. 170A

Naval Surface Warfare Center

Dalgren Co: King George VA 22448-

Landholding Agency: Navy

Property Number: 77200120055

Status: Unutilized

Reason: Extensive deterioration

Bldg. B239

Naval Surface Warfare Center

Dalgren Co: King George VA 22448-

Landholding Agency: Navy

Property Number: 77200120056

Status: Unutilized

Reason: Extensive deterioration

Bldg. B362

Naval Surface Warfare Center

Dalgren Co: King George VA 22448-

Landholding Agency: Navy

Property Number: 77200120057

Status: Unutilized

Reason: Extensive deterioration

Bldg. B396

Naval Surface Warfare Center

Dalgren Co: King George VA 22448-

Landholding Agency: Navy

Property Number: 77200120058

Status: Unutilized

Reason: Extensive deterioration

Bldg. B402

Naval Surface Warfare Center

Dalgren Co: King George VA 22448-

Landholding Agency: Navy

Property Number: 77200120059

Status: Unutilized

Reason: Extensive deterioration

Bldg. B425

Naval Surface Warfare Center

Dalgren Co: King George VA 22448-

Landholding Agency: Navy

Property Number: 77200120060

Status: Unutilized

Reason: Extensive deterioration

Bldg. B428

Naval Surface Warfare Center

Dalgren Co: King George VA 22448-

Landholding Agency: Navy

Property Number: 77200120061

Status: Unutilized

Reason: Extensive deterioration

Bldg. B451

Naval Surface Warfare Center

Dalgren Co: King George VA 22448-

Landholding Agency: Navy

Property Number: 77200120062

Status: Unutilized

Reason: Extensive deterioration

Bldg. B465

Naval Surface Warfare Center

Dalgren Co: King George VA 22448-

Landholding Agency: Navy

Property Number: 77200120063

Status: Unutilized

Reason: Extensive deterioration

Bldg. B1100

Naval Surface Warfare Center

Dalgren Co: King George VA 22448-

Landholding Agency: Navy

Property Number: 77200120064

Status: Unutilized

Reason: Extensive deterioration

Bldg. B1124

Naval Surface Warfare Center

Dalgren Co: King George VA 22448-

Landholding Agency: Navy

Property Number: 77200120065

Status: Unutilized

Reason: Extensive deterioration

Bldg. B9411

Naval Surface Warfare Center

Dalgren Co: King George VA 22448-

Landholding Agency: Navy

Property Number: 77200120066

Status: Unutilized

Reason: Extensive deterioration

Bldg. B9429

Naval Surface Warfare Center

Dalgren Co: King George VA 22448-

Landholding Agency: Navy

Property Number: 77200120067

Status: Unutilized

Reason: Extensive deterioration

Tracks

Naval Surface Warfare Center

Dalgren Co: King George VA 22448-

Landholding Agency: Navy

Property Number: 77200120068

Status: Unutilized

Reason: Extensive deterioration

Bldg. B107

Naval Surface Warfare Center

Dahlgren Co: King George VA 22448-5100

Landholding Agency: Navy

Property Number: 77200130045

Status: Unutilized

Reason: Extensive deterioration

Bldg. B153

Naval Surface Warfare Center

Dahlgren Co: King George VA 22448-

Landholding Agency: Navy

Property Number: 77200130046

Status: Unutilized

Reason: Extensive deterioration

Bldg. B166

Naval Surface Warfare Center

Dahlgren Co: King George VA 22448-

Landholding Agency: Navy

Property Number: 77200130047

Status: Unutilized

Reason: Extensive deterioration

Bldg. B167

Naval Surface Warfare Center

Dahlgren Co: King George VA 22448-

Landholding Agency: Navy

Property Number: 77200130048

Status: Unutilized

Reason: Extensive deterioration

Bldg. B185T

Naval Surface Warfare Center

Dahlgren Co: King George VA 22448-

Landholding Agency: Navy

Property Number: 77200130049

Status: Unutilized

Reason: Extensive deterioration

Bldg. B196

Naval Surface Warfare Center

Dahlgren Co: King George VA 22448-

Landholding Agency: Navy

Property Number: 77200130050

Status: Unutilized

Reason: Extensive deterioration

Bldg. B244

Naval Surface Warfare Center

Dahlgren Co: King George VA 22448-

Landholding Agency: Navy

Property Number: 77200130051

Status: Unutilized

Reason: Extensive deterioration

Bldg. B284

Naval Surface Warfare Center

Dahlgren Co: King George VA 22448-

Landholding Agency: Navy

Property Number: 77200130052

Status: Unutilized

Reason: Extensive deterioration

Bldg. B299

Naval Surface Warfare Center

Dahlgren Co: King George VA 22448-

Landholding Agency: Navy

Property Number: 77200130053

Status: Unutilized

Reason: Extensive deterioration

Bldg. B313

Naval Surface Warfare Center

Dahlgren Co: King George VA 22448-

Landholding Agency: Navy

Property Number: 77200130054

Status: Unutilized

Reason: Extensive deterioration

Bldg. B347

Naval Surface Warfare Center

Dahlgren Co: King George VA 22448-

Landholding Agency: Navy

Property Number: 77200130055

Status: Unutilized

Reason: Extensive deterioration

Bldg. B360

Naval Surface Warfare Center

Dahlgren Co: King George VA 22448-

Landholding Agency: Navy

Property Number: 77200130056

Status: Unutilized

Reason: Extensive deterioration

Bldg. B410

Naval Surface Warfare Center

Dahlgren Co: King George VA 22448-

Landholding Agency: Navy

Property Number: 77200130057

Status: Unutilized

Reason: Extensive deterioration

Bldg. B416

Naval Surface Warfare Center

Dahlgren Co: King George VA 22448-

Landholding Agency: Navy

Property Number: 77200130058

Status: Unutilized

Reason: Extensive deterioration

Bldg. B430

Naval Surface Warfare Center

Dahlgren Co: King George VA 22448-

Landholding Agency: Navy

Property Number: 77200130059

Status: Unutilized

Reason: Extensive deterioration

Bldg. B993

Naval Surface Warfare Center

Dahlgren Co: King George VA 22448-

Landholding Agency: Navy

Property Number: 77200130060

Status: Unutilized

Reason: Extensive deterioration

Bldg. B1119

Naval Surface Warfare Center

Dahlgren Co: King George VA 22448-

Landholding Agency: Navy

Property Number: 77200130061

Status: Unutilized

Reason: Extensive deterioration

Bldg. B1299

Naval Surface Warfare Center

Dahlgren Co: King George VA 22448-

Landholding Agency: Navy

Property Number: 77200130062

Status: Unutilized

Reason: Extensive deterioration

Bldg. B1350

Naval Surface Warfare Center

Dahlgren Co: King George VA 22448-

Landholding Agency: Navy

Property Number: 77200130063

Status: Unutilized

Reason: Extensive deterioration

Bldg. B1355

Naval Surface Warfare Center

Dahlgren Co: King George VA 22448-

Landholding Agency: Navy

Property Number: 77200130064

Status: Unutilized

Reason: Extensive deterioration

Bldg. B1376

Naval Surface Warfare Center

Dahlgren Co: King George VA 22448-

Landholding Agency: Navy

Property Number: 77200130065

Status: Unutilized

Reason: Extensive deterioration

Bldg. B1379

Naval Surface Warfare Center

Dahlgren Co: King George VA 22448-

Landholding Agency: Navy

Property Number: 77200130066

Status: Unutilized

Reason: Extensive deterioration

Bldg. B1383

Naval Surface Warfare Center

Dahlgren Co: King George VA 22448-

Landholding Agency: Navy

Property Number: 77200130067

Status: Unutilized

Reason: Extensive deterioration

Bldg. B1386

Naval Surface Warfare Center

Dahlgren Co: King George VA 22448-

Landholding Agency: Navy

Property Number: 77200130068

Status: Unutilized

Reason: Extensive deterioration

Bldg. B9406

Naval Surface Warfare Center

Dahlgren Co: King George VA 22448-

Landholding Agency: Navy

Property Number: 77200130069

Status: Unutilized

Reason: Extensive deterioration

Bldg. 116

Marine Corps Base

Quantico Co: VA 22134-

Landholding Agency: Navy

Property Number: 77200130101

Status: Unutilized

Reason: Extensive deterioration

Bldgs. 55, 3233

Marine Corps Base

Quantico Co: VA 22134-

Landholding Agency: Navy

Property Number: 77200130115

Status: Excess

Reason: Extensive deterioration

Bldg. B260

Naval Surface Warfare Center

Dahlgren Co: King George VA 22448-5100

Landholding Agency: Navy

Property Number: 77200130116

Status: Unutilized

Reason: Extensive deterioration

Bldg. B452

Naval Surface Warfare Center

Dahlgren Co: King George VA 22448-

Landholding Agency: Navy

Property Number: 77200130117

Status: Unutilized

Reason: Extensive deterioration

Bldg. B1361

Naval Surface Warfare Center

Dahlgren Co: King George VA 22448-

Landholding Agency: Navy

Property Number: 77200130118

Status: Unutilized

Reason: Extensive deterioration

Bldg. B1360

Naval Surface Warfare Center

Dahlgren Co: King George VA 22448-

Landholding Agency: Navy

Property Number: 77200130119

Status: Unutilized

Reason: Extensive deterioration

Bldg. B1362

Naval Surface Warfare Center

Dahlgren Co: King George VA 22448-

Landholding Agency: Navy

Property Number: 77200130120

Status: Unutilized

Reason: Extensive deterioration

Bldg. B9409

Naval Surface Warfare Center

Dahlgren Co: King George VA 22448-

Landholding Agency: Navy

Property Number: 77200130121

Status: Unutilized

Reason: Extensive deterioration

Bldg. B9412

Naval Surface Warfare Center

Dahlgren Co: King George VA 22448-

Landholding Agency: Navy

Property Number: 77200130122

Status: Unutilized

Reason: Extensive deterioration

Bldg. B9436

Naval Surface Warfare Center

Dahlgren Co: King George VA 22448-5100

Landholding Agency: Navy

Property Number: 77200130123

Status: Unutilized

Reason: Extensive deterioration

Bldg. B9445

Naval Surface Warfare Ceneter

Dahlgren Co: King George VA 22448-5100

Landholding Agency: Navy

Property Number: 77200130124

Status: Unutilized

Reason: Extensive deterioration

Bldg. B9446

Naval Surface Warfare Center

Dahlgren Co: King George VA 22448-

Landholding Agency: Navy

Property Number: 77200130125

Status: Unutilized

Reason: Extensive deterioration

Bldg. B9461

Naval Surface Warfare Center

Dahlgren Co: King George VA 22448-

Landholding Agency: Navy

Property Number: 77200130126

Status: Unutilized

Reason: Extensive deterioration

Bldg. B9462

Naval Surface Warfare Center

Dahlgren Co: King George VA 22448-

Landholding Agency: Navy

Property Number: 77200130127

Status: Unutilized

Reason: Extensive deterioration

58 Housing Units

Marine Corps Base

Quantico Co: VA 22134-

Landholding Agency: Navy

Property Number: 77200210040

Status: Unutilized

Reason: Extensive deterioration

18 Housing Units

Marine Corps Base

Quantico Co: VA

Landholding Agency: Navy

Property Number: 77200210041

Status: Unutilized

Reason: Extensive deterioration

8 Bldgs.

Marine Corps Base

#3220-3227

Quantico Co: VA 22134-

Landholding Agency: Navy

Property Number: 77200210062

Status: Excess

Reason: Extensive deterioration

6 Bldgs.

Marine Corps Base

2600A, 2604, 2631, 2664, 26123, 261512

Quantico Co: VA 22134-

Landholding Agency: Navy

Property Number: 77200210063

Status: Excess

Reason: Extensive deterioration

Bldg. SP-93

Naval Station

Norfolk Co: VA 23511-

Landholding Agency: Navy

Property Number: 77200220037

Status: Excess

Reason: Extensive deterioration

Bldg. U-40/Portion

Naval Station

Norfolk Co: VA

Landholding Agency: Navy

Property Number: 77200220040

Status: Excess

Reason: Extensive deterioration

Bldg. SP-63

Naval Station

Norfolk Co: VA

Landholding Agency: Navy

Property Number: 77200220041

Status: Excess

Reason: Extensive deterioration

Bldg. SP-63A

Naval Station

Norfolk Co: VA

Landholding Agency: Navy

Property Number: 77200220042

Status: Excess

Reason: Extensive deterioration

Bldg. A-67

Naval Station

Norfolk Co: VA

Landholding Agency: Navy

Property Number: 77200220043

Status: Excess

Reason: Extensive deterioration

Bldg. U-124

Naval Station

Norfolk Co: VA

Landholding Agency: Navy

Property Number: 77200220044

Status: Excess

Reason: Extensive deterioration

Bldg. CEP-213

Naval Station

Norfolk Co: VA

Landholding Agency: Navy

Property Number: 77200220045

Status: Excess

Reason: Extensive deterioration

Bldg. 51

Naval Weapons Station

Yorktown Co: VA 23691-

Landholding Agency: Navy

Property Number: 77200220054

Status: Excess

Reasons: Within 2000 ft. of flammable or explosive material; Secured Area; Extensive deterioration

Bldg. 79

Naval Weapons Station

Yorktown Co: VA 23691-

Landholding Agency: Navy

Property Number: 77200220055

Status: Excess

Reasons: Within 2000 ft. of flammable or explosive material; Secured Area

Bldg. 89

Naval Weapons Station

Yorktown Co: VA 23691-

Landholding Agency: Navy

Property Number: 77200220056

Status: Excess

Reasons: Within 2000 ft. of flammable or explosive material; Secured Area

5 Bldgs.

Naval Weapons Station #90, 91, 95, 96, 101

Yorktown Co: VA 23691-

Landholding Agency: Navy

Property Number: 77200220057

Status: Excess

Reasons: Within 2000 ft. of flammable or explosive material; Secured Area; Extensive deterioration

Bldg. 119A

Naval Weapons Station

Yorktown Co: VA 23691-

Landholding Agency: Navy

Property Number: 77200220058

Status: Excess

Reasons: Within 2000 ft. of flammable or explosive material; Secured Area

Bldg. 378

Naval Weapons Station

Yorktown Co: VA 23691-

Landholding Agency: Navy

Property Number: 77200220059

Status: Excess

Reasons: Within 2000 ft. of flammable or explosive material; Secured Area

Bldg. 398

Naval Weapons Station

Yorktown Co: VA 23691-

Landholding Agency: Navy

Property Number: 77200220060

Status: Excess

Reasons: Within 2000 ft. of flammable or explosive material; Secured Area; Extensive deterioration

Bldg. 415

Naval Weapons Station

Yorktown Co: VA 23691-

Landholding Agency: Navy

Property Number: 77200220061

Status: Excess

Reasons: Within 2000 ft. of flammable or explosive material; Secured Area; Extensive deterioration

Bldgs. 440, 441

Naval Weapons Station

Yorktown Co: VA 23691-

Landholding Agency: Navy

Property Number: 77200220062

Status: Excess

Reasons: Within 2000 ft. of flammable or explosive material; Secured Area; Extensive deterioration

Bldg. 508

Naval Weapons Station

Yorktown Co: VA 23691-

Landholding Agency: Navy

Property Number: 77200220063

Status: Excess

Reasons: Within 2000 ft. of flammable or explosive material; Secured Area; Extensive deterioration

Bldg. 510

Naval Weapons Station

Yorktown Co: VA 23691-

Landholding Agency: Navy

Property Number: 77200220064

Status: Excess

Reasons: Within 2000 ft. of flammable or explosive material; Secured Area; Extensive deterioration

Bldg. 605

Naval Weapons Station

Yorktown Co: VA 23691-

Landholding Agency: Navy

Property Number: 77200220065

Status: Excess

Reasons: Within 2000 ft. of flammable or explosive material; Secured Area

Bldg. 624

Naval Weapons Station

Yorktown Co: VA 23691-

Landholding Agency: Navy

Property Number: 77200220066

Status: Excess

Reasons: Within 2000 ft. of flammable or explosive material; Secured Area; Extensive deterioration

Bldg. 688

Naval Weapons Station

Yorktown Co: VA 23691-

Landholding Agency: Navy

Property Number: 77200220067

Status: Excess

Reasons: Within 2000 ft. of flammable or explosive material; Secured Area

Bldgs. 1271, 1272, 1273

Naval Weapons Station

Yorktown Co: VA 23691-

Landholding Agency: Navy

Property Number: 77200220068

Status: Excess

Reason: Secured Area

Bldgs. 1465, 1466

Naval Weapons Station

Yorktown Co: VA 23691-

Landholding Agency: Navy

Property Number: 77200220069

Status: Excess

Reasons: Within 2000 ft. of flammable or explosive material; Secured Area

Bldgs. 1467, 1468, 1469

Naval Weapons Station

Yorktown Co: VA 23691-

Landholding Agency: Navy

Property Number: 77200220070

Status: Excess

Reasons: Within 2000 ft. of flammable or explosive material; Secured Area

Bldg. 1799

Naval Weapons Station

Yorktown Co: VA 23691-

Landholding Agency: Navy

Property Number: 77200220071

Status: Excess

Reasons: Within 2000 ft. of flammable or explosive material; Secured Area

Bldg. CAD40

Naval Weapons Station

Yorktown Co: VA 23691-

Landholding Agency: Navy

Property Number: 77200220084

Status: Excess

Reason: Secured Area

Bldg. CAD41

Naval Weapons Station

Yorktown Co: VA 23691-

Landholding Agency: Navy

Property Number: 77200220085

Status: Excess

Reason: Secured Area

Bldg. CAD479

Naval Weapons Station

Yorktown Co: VA 23691-

Landholding Agency: Navy

Property Number: 77200220086

Status: Excess

Reason: Secured Area

Bldg. 2250

Marine Corps Base

Quantico Co: VA 22134-

Landholding Agency: Navy

Property Number: 77200230014

Status: Excess

Reason: Extensive deterioration

Bldg. 819

Marine Corps Base

Geiger Ridge

Quantico Co: VA 22134-

Landholding Agency: Navy

Property Number: 77200230015

Status: Excess

Reason: Extensive deterioration

Bldg. B-2108

Marine Corps Base

Quantico Co: VA 22134-

Landholding Agency: Navy

Property Number: 77200230016

Status: Excess

Reason: Extensive deterioration

6 Bldgs.

Marine Corps Base

Quantico Co: VA

Location: #2902, 2906, 2923, 2928, 2930, 2950

Landholding Agency: Navy

Property Number: 77200230030

Status: Excess

Reason: Extensive deterioration

30 Housing Units

Marine Corps Base

Quantico Co: VA 22134-

Landholding Agency: Navy

Property Number: 77200240006

Status: Excess

Reason: Extensive deterioration

Bldgs. 3028, 3037

Marine Corps Base

Quantico Co: VA 22134-

Landholding Agency: Navy

Property Number: 77200240007

Status: Excess

Reason: Extensive deterioration

Bldgs. 3035, 3040, 3205

Marine Corps Base

Quantico Co: VA 22134-

Landholding Agency: Navy

Property Number: 77200240008

Status: Excess

Reason: Extensive deterioration

Bldg. 60

Naval Surface Warfare Center

Dahlgren Co: King George VA 22448-

Landholding Agency: Navy

Property Number: 77200240009

Status: Unutilized

Reasons: Within 2000 ft. of flammable or explosive material; Secured Area; Extensive deterioration

Bldg. 1216

Naval Surface Warfare Center

Dahlgren Co: King George VA 22448-

Landholding Agency: Navy

Property Number: 77200240010

Status: Unutilized

Reasons: Within 2000 ft. of flammable or explosive material; Secured Area; Extensive deterioration

Bldg. 1354

Naval Surface Warfare Center

Dahlgren Co: King George VA 22448-

Landholding Agency: Navy

Property Number: 77200240011

Status: Unutilized

Reasons: Within 2000 ft. of flammable or explosive material; Secured Area; Extensive deterioration

Pier R-1

Naval Weapons Station

Yorktown Co: VA 23691-

Landholding Agency: Navy

Property Number: 77200240053

Status: Unutilized

Reasons: Within 2000 ft. of flammable or explosive material; Secured Area

Bldg. 709

Naval Weapons Station

Yorktown Co: VA 23691-

Landholding Agency: Navy

Property Number: 77200240054

Status: Unutilized

Reasons: Within 2000 ft. of flammable or explosive material; Secured Area

Bldg. M-15

Naval Station

Norfolk Co: VA 23511-3095

Landholding Agency: Navy

Property Number: 77200240055

Status: Excess

Reason: Extensive deterioration

Bldg. NM-79

Naval Station

Norfolk Co: VA 23511-3095

Landholding Agency: Navy

Property Number: 77200240056

Status: Excess

Reason: Extensive deterioration

Bldg. Z-216

Naval Station

Norfolk Co: VA 23511-3095

Landholding Agency: Navy

Property Number: 77200240057

Status: Excess

Reason: Extensive deterioration

Bldg. 052 & Tennis Court

USCG Reserve Training Center

Yorktown Co: York VA 23690-

Landholding Agency: DOT

Property Number: 87199230004

Status: Excess

Reason: Secured Area

Admin. Bldg.

Coast Guard, Group Eastern Shores

Chincoteague Co: Accomack VA 23361-510

Landholding Agency: DOT

Property Number: 87199240014

Status: Unutilized

Reason: Secured Area

Little Creek Station

Navamphib Base, West Annex, U.S. Coast Guard

Norfolk Co: Princess Anne VA 23520-

Landholding Agency: DOT

Property Number: 87199310004

Status: Unutilized

Reason: Secured Area

Operations Bldg.

U.S. Coast Guard Group Hampton Roads

Portsmouth VA 23703-

Landholding Agency: DOT

Property Number: 87199710003

Status: Unutilized

Reason: Secured Area

Bldgs. 63, 115

USCG Training Center

Yorktown Co: York VA 23690-5000

Landholding Agency: DOT

Property Number: 87200110037

Status: Unutilized

Reasons: Within 2000 ft. of flammable or explosive material; Secured Area; Extensive deterioration

Bldg. 156

USCG Training Center Yorktown

Yorktown Co: York VA 23690-5000

Landholding Agency: DOT

Property Number: 87200120015

Status: Underutilized

Reasons: Within 2000 ft. of flammable or explosive material; Secured Area

Bldg. 002

USCG Eastern Shore

Chincoteague Co: Accomak VA 23336-

Landholding Agency: DOT

Property Number: 87200220007

Status: Excess

Reason: Secured Area

Washington

Bldg. 6661

Naval Submarine Base, Bangor

Silverdale Co: Kitsap WA 98315-6499

Landholding Agency: Navy

Property Number: 77199730039

Status: Unutilized

Reason: Secured Area

Bldg. 604

Manchester Fuel Department

Port Orchard WA 98366-

Landholding Agency: Navy

Property Number: 77199810170

Status: Excess

Reasons: Within 2000 ft. of flammable or explosive material; Secured Area

Bldg. 288

Fleet Industrial Supply Center

Bremerton WA 98314-5100

Landholding Agency: Navy

Property Number: 77199810171

Status: Excess

Reasons: Within 2000 ft. of flammable or explosive material; Secured Area

Bldg. 47

Naval Radio Station T Jim Creek

Arlington Co: Snohomish WA 98223-

Landholding Agency: Navy

Property Number: 77199820056

Status: Unutilized

Reasons: Secured Area; Extensive deterioration

Bldg. 48

Naval Radio Station T Jim Creek

Arlington Co: Snohomish WA 98223-

Landholding Agency: Navy

Property Number: 77199820057

Status: Unutilized

Reasons: Secured Area; Extensive deterioration

Coal Handling Facilities

Puget Sound Naval Shipyard

#908, 919, 926-929

Bremerton WA 98314-5000

Landholding Agency: Navy

Property Number: 77199820142

Status: Excess

Reason: Within 2000 ft. of flammable or explosive material

Bldg. 193

Puget Sound Naval Shipyard

Bremerton WA 98310-

Landholding Agency: Navy

Property Number: 77199820143

Status: Unutilized

Reason: contamination

Bldg. 202

Naval Air Station Whidbey Island

Oak Harbor WA 98278-

Landholding Agency: Navy

Property Number: 77199830019

Status: Excess

Reason: Within 2000 ft. of flammable or explosive material

Bldg. 2649

Naval Air Station Whidbey Island

Oak Harbor WA 98278-

Landholding Agency: Navy

Property Number: 77199830020

Status: Excess

Reasons: Within 2000 ft. of flammable or explosive material; Extensive deterioration

Bldgs. 35, 36

Naval Radio Station T Jim Creek

Arlington Co: Snohomish WA 98223-

Landholding Agency: Navy

Property Number: 77199830076

Status: Unutilized

Reason: Extensive deterioration

Bldg. 918

Puget Sound Naval Shipyard

Bremerton WA 98314-5000

Landholding Agency: Navy

Property Number: 77199840020

Status: Unutilized

Reasons: Within 2000 ft. of flammable or explosive material; Secured Area

Bldg. 894

Naval Undersea Warfare Center

Keyport Co: Kitsap WA 98345-7610

Landholding Agency: Navy

Property Number: 77199920085

Status: Underutilized

Reasons: Within 2000 ft. of flammable or explosive material; Secured Area

Bldg. 73

Naval Undersea Warfare Center

Keyport Co: Kitsap WA 98345-

Landholding Agency: Navy

Property Number: 77199920152

Status: Underutilized

Reasons: Within 2000 ft. of flammable or explosive material; Secured Area

Bldg. 210A

Naval Station Bremerton

Bremerton Co: WA 98314-

Landholding Agency: Navy

Property Number: 77199930021

Status: Excess

Reasons: Within 2000 ft. of flammable or explosive material; Secured Area

Bldg. 511

Naval Station Bremerton

Bremerton Co: WA 98314-

Landholding Agency: Navy

Property Number: 77199930022

Status: Excess

Reasons: Within 2000 ft. of flammable or explosive material; Secured Area; Extensive deterioration

Bldg. 527

Naval Station Bremerton

Bremerton Co: WA 98314-

Landholding Agency: Navy

Property Number: 77199930023

Status: Excess

Reasons: Within 2000 ft. of flammable or explosive material; Secured Area

Bldg. 97

Naval Air Station

Whidbey Island

Oak Harbor Co: WA 98278-

Landholding Agency: Navy

Property Number: 77199930040

Status: Unutilized

Reason: Extensive deterioration

Bldg. 331

Naval Undersea Warfare Center

Keyport Co: Kitsap WA 98345-

Landholding Agency: Navy

Property Number: 77199930041

Status: Unutilized

Reasons: Secured Area; Extensive deterioration

Bldg. 786

Naval Undersea Warfare Center

Keyport Co: Kitsap WA 98345-

Landholding Agency: Navy

Property Number: 77199930042

Status: Unutilized

Reasons: Secured Area; Extensive deterioration

Bldg. 15

Naval Air Station, Whidbey Island

Oak Harbor Co: WA 98278-3500

Landholding Agency: Navy

Property Number: 77199930071

Status: Unutilized

Reason: Extensive deterioration

Bldg. 119

Naval Air Station, Whidbey Island

Oak Harbor Co: WA 98278-3500

Landholding Agency: Navy

Property Number: 77199930072

Status: Unutilized

Reason: Extensive deterioration

Bldg. 853

Naval Air Station, Whidbey Island

Oak Harbor Co: WA 98278-3500

Landholding Agency: Navy

Property Number: 77199930073

Status: Unutilized

Reason: Extensive deterioration

Bldg. 854

Naval Air Station, Whidbey Island

Oak Harbor Co: WA 98278-3500

Landholding Agency: Navy

Property Number: 77199930074

Status: Unutilized

Reason: Extensive deterioration

Bldg. 166

Puget Sound Naval Shipyard

Bremerton Co: WA 98314-5000

Landholding Agency: Navy

Property Number: 77199930101

Status: Excess

Reason: Secured Area

Bldg. 287

Puget Sound Naval Shipyard

Bremerton Co: WA 98314-5000

Landholding Agency: Navy

Property Number: 77199930102

Status: Excess

Reason: Secured Area

Bldg. 418

Puget Sound Naval Shipyard

Bremerton Co: WA 98314-5000

Landholding Agency: Navy

Property Number: 77199930103

Status: Excess

Reason: Secured Area

Bldg. 858

Puget Sound Naval Shipyard

Bremerton Co: WA 98314-5000

Landholding Agency: Navy

Property Number: 77199930104

Status: Excess

Reason: Secured Area

Bldg. 17

Naval Radio Station

Jim Creek

Arlington Co: WA 98223-8599

Landholding Agency: Navy

Property Number: 77200010073

Status: Excess

Reasons: Secured Area; Extensive deterioration

Bldg. 47

Naval Undersea Warfare

Keyport Co: Kitsap WA 98345-7610

Landholding Agency: Navy

Property Number: 77200010074

Status: Unutilized

Reasons: Within 2000 ft. of flammable or explosive material; Secured Area

Whitney Point Complex

Brinnon Co: Jefferson WA 98320-9899

Landholding Agency: Navy

Property Number: 77200010102

Status: Excess

Reason: Extensive deterioration

Bldg. 398

Naval Station

Bremerton Co: WA 98314-5000

Landholding Agency: Navy

Property Number: 77200020038

Status: Unutilized

Reasons: Within 2000 ft. of flammable or explosive material; Secured Area

Bldg. 976

Naval Station

Bremerton Co: WA 98314-5020

Landholding Agency: Navy

Property Number: 77200020039

Status: Unutilized

Reasons: Within 2000 ft. of flammable or explosive material; Secured Area

Extensive deterioration

8 Bldgs.

Naval Station 902, 903, 905, 907, 909-911, 915

Bremerton Co: WA 98314-5020

Landholding Agency: Navy

Property Number: 77200020040

Status: Unutilized

Reasons: Within 2000 ft. of flammable or explosive material; Secured Area

Bldg. 109

Naval Weapons Station

Port Hadlock Co: Jefferson WA 98339-9723

Landholding Agency: Navy

Property Number: 77200030020

Status: Unutilized

Reasons: Within 2000 ft. of flammable or explosive material; Secured Area; Extensive deterioration

Bldg. 157

Naval Weapons Station

Port Hadlock Co: Jefferson WA 98339-9723

Landholding Agency: Navy

Property Number: 77200030021

Status: Unutilized

Reasons: Within 2000 ft. of flammable or explosive material; Secured Area; Extensive deterioration

Bldg. 161

Naval Weapons Station

Port Hadlock Co: Jefferson WA 98339-9723

Landholding Agency: Navy

Property Number: 77200030022

Status: Unutilized

Reasons: Within 2000 ft. of flammable or explosive material; Secured Area; Extensive deterioration

Bldg. 170

Naval Weapons Station

Port Hadlock Co: Jefferson WA 98339-9723

Landholding Agency: Navy

Property Number: 77200030023

Status: Unutilized

Reasons: Within 2000 ft. of flammable or explosive material; Secured Area; Extensive deterioration

Bldg. 262

Naval Weapons Station

Port Hadlock Co: Jefferson WA 98339-9723

Landholding Agency: Navy

Property Number: 77200030024

Status: Unutilized

Reasons: Within 2000 ft. of flammable or explosive material; Secured Area; Extensive deterioration

Bldg. 482

Puget Sound Naval Shipyard

Bremerton Co: WA 98314-5000

Landholding Agency: Navy

Property Number: 77200040019

Status: Excess

Reason: Secured Area

Bldg. 529

Puget Sound Naval Shipyard

Bremerton Co: WA 98314-5000

Landholding Agency: Navy

Property Number: 77200040020

Status: Excess

Reason: Secured Area

Bldg. 133

Naval Undersea Warfare Station

Keyport Co: Kitsap WA 98345-7610

Landholding Agency: Navy

Property Number: 77200120133

Status: Unutilized

Reasons: Within 2000 ft. of flammable or explosive material; Secured Area; Extensive deterioration

Bldg. 2511

NAS Whidbey Island

Oak Harbor Co: Island WA 98278-3500

Landholding Agency: Navy

Property Number: 77200120157

Status: Excess

Reason: Secured Area

Bldg. 98

Naval Air Station

Oak Harbor Co: Whidbey Island WA 98278-

Landholding Agency: Navy

Property Number: 77200220022

Status: Unutilized

Reasons: Within 2000 ft. of flammable or explosive material; Floodway; Extensive deterioration

Bldg. 2667

Naval Air Station

Oak Harbor Co: Whidbey Island WA 98278-

Landholding Agency: Navy

Property Number: 77200220023

Status: Unutilized

Reasons: Within 2000 ft. of flammable or explosive material; Floodway; Extensive deterioration

Bldg. 899

Puget Sound Naval Shipyard

Bremerton Co: WA 98314-5000

Landholding Agency: Navy

Property Number: 77200230032

Status: Unutilized

Reasons: Within 2000 ft. of flammable or explosive material; Secured Area

Bldgs. 935, 936, 956, 957

Naval Station

Bremerton Co: WA 98314-5020

Landholding Agency: Navy

Property Number: 77200230041

Status: Excess

Reasons: Within 2000 ft. of flammable or explosive material; Secured Area

Bldg. 1990

Naval Station

Everett Co: Snohomish WA 98207-5001

Landholding Agency: Navy

Property Number: 77200230044

Status: Excess

Reasons: Secured Area; Extensive deterioration

Bldg. 530

Naval Station

Bremerton Co: WA 98314-5020

Landholding Agency: Navy

Property Number: 77200230058

Status: Excess

Reasons: Within 2000 ft. of flammable or explosive material; Secured Area

Bldg. 878

Naval Station

Bremerton Co: WA 98314-5020

Landholding Agency: Navy

Property Number: 77200230059

Status: Excess

Reasons: Within 2000 ft. of flammable or explosive material; Secured Area

Bldg. 904

Naval Station

Fort Lawton

Everett Co: Snohomish WA 98207-5001

Landholding Agency: Navy

Property Number: 77200230060

Status: Excess

Reason: Extensive deterioration

Bldg. 66

Naval Magazine

Indian Island

Port Hadlock Co: Jefferson WA 98339-9723

Landholding Agency: Navy

Property Number: 77200240032

Status: Unutilized

Reasons: Within 2000 ft. of flammable or explosive material; Secured Area; Extensive deterioration

Bldg. 67

Naval Magazine

Indian Island

Port Hadlock Co: Jefferson WA 98339-9723

Landholding Agency: Navy

Property Number: 77200240033

Status: Unutilized

Reasons: Within 2000 ft. of flammable or explosive material; Secured Area; Extensive deterioration

Bldg. 180

Naval Magazine

Indian Island

Port Hadlock Co: Jefferson WA 98339-9723

Landholding Agency: Navy

Property Number: 77200240034

Status: Unutilized

Reasons: Within 2000 ft. of flammable or explosive material; Secured Area; Extensive deterioration

Bldg. 182

Naval Magazine

Indian Island

Port Hadlock Co: Jefferson WA 98339-9723

Landholding Agency: Navy

Property Number: 77200240035

Status: Unutilized

Reasons: Within 2000 ft. of flammable or explosive material; Secured Area; Extensive deterioration

Bldg. 214

Naval Magazine

Indian Island

Port Hadlock Co: Jefferson WA 98339-9723

Landholding Agency: Navy

Property Number: 77200240036

Status: Unutilized

Reasons: Within 2000 ft. of flammable or explosive material; Secured Area; Extensive deterioration

Bldg. 273

Naval Magazine

Indian Island

Port Hadlock Co: Jefferson WA 98339-9723

Landholding Agency: Navy

Property Number: 77200240037

Status: Unutilized

Reasons: Within 2000 ft. of flammable or explosive material; Secured Area; Extensive deterioration

Bldg. 937

Naval Undersea Warfare

Keyport Co: Kitsap WA 98345-7610

Landholding Agency: Navy

Property Number: 77200240038

Status: Unutilized

Reasons: Within 2000 ft. of flammable or explosive material; Secured Area

Bldg. 2801A

Naval Undersea Warfare

Keyport Co: Kitsap WA 98345-7610

Landholding Agency: Navy

Property Number: 77200240039

Status: Unutilized

Reasons: Within 2000 ft. of flammable or explosive material; Secured Area

Bldg. 7634

Naval Undersea Warfare

Keyport Co: Kitsap WA 98345-7610

Landholding Agency: Navy

Property Number: 77200240040

Status: Unutilized

Reasons: Within 2000 ft. of flammable or explosive material; Secured Area

Wisconsin

Rawley Point Light

Two Rivers Co: Manitowoc WI

Landholding Agency: DOT

Property Number: 87199540004

Status: Unutilized

Reasons: Secured Area; Extensive deterioration

Land (by State)

California

Space Surv. Field Station

Portion/Off Heritage Road

San Diego CA 90012-1408

Landholding Agency: Navy

Property Number: 77199820049

Status: Excess

Reason: Within 2000 ft. of flammable or explosive material

Land

Naval Construction Battalion Center

Port Hueneme Co: Ventura CA 93043-4301

Landholding Agency: Navy

Property Number: 77199940001

Status: Underutilized

Reason: Secured Area

PCL-4 (11.60 acres)

Construction Battalion Center

Port Hueneme Co: Ventura CA 93043-4301

Landholding Agency: Navy

Property Number: 77200020095

Status: Underutilized

Reason: Secured Area

Parcel 8

Naval Base

Port Hueneme Co: Ventura CA 93043-4300

Landholding Agency: Navy

Property Number: 77200110040

Status: Underutilized

Reason: Secured Area

Parcel 10

Naval Base

Port Hueneme Co: Ventura CA 93043-4300

Landholding Agency: Navy

Property Number: 77200110041

Status: Underutilized

Reason: Secured Area

Parcel 12

Naval Base

Port Hueneme Co: Ventura CA 93043-4300

Landholding Agency: Navy

Property Number: 77200110043

Status: Underutilized

Reason: Secured Area

Parcel 13

Naval Base

Port Hueneme Co: Ventura CA 93043-4300

Landholding Agency: Navy

Property Number: 77200110044

Status: Underutilized

Reason: Secured Area

Parcel 14

Naval Base

Port Hueneme Co: Ventura CA 93043-4300

Landholding Agency: Navy

Property Number: 77200110045

Status: Underutilized

Reason: Secured Area

Eniwetok Playgrounds

Marine Corps Logistics Base

Barstow Co: San Bernardino CA 92311-

Landholding Agency: Navy

Property Number: 77200220034

Status: Underutilized

Reason: Secured Area

CB Rifle Range

Point Mugu Co: Ventura CA 93042-5000

Landholding Agency: Navy

Property Number: 77200230001

Status: Underutilized

Reasons: Within 2000 ft. of flammable or explosive material; Secured Area

District of Columbia

1600 sq. ft./T-88

Naval Research Lab

Washington Co: DC 20375-5320

Landholding Agency: Navy

Property Number: 77200110118

Status: Unutilized

Reason: Within 2000 ft. of flammable or explosive material

Florida

Land—approx. 220 acres

Cape San Blas

Port St. Joe Co: Gulf FL

Landholding Agency: DOT

Property Number: 87199440018

Status: Underutilized

Reasons: Floodway; Secured Area

Maine

Parcel 2

Naval Air Station

Canam Drive

Topsham Co: Cumberland ME 04086-

Landholding Agency: Navy

Property Number: 77200130026

Status: Unutilized

Reason: Secured Area

Parcel 3

Naval Air Station

Canam Drive

Topsham Co: Cumberland ME 04086-

Landholding Agency: Navy

Property Number: 77200130027

Status: Unutilized

Reason: Secured Area

Parcel 5

Naval Air Station

Canam Drive

Topsham Co: Cumberland ME 04086-

Landholding Agency: Navy

Property Number: 77200130028

Status: Unutilized

Reason: Secured Area

Maryland

6 Acres

Naval Air Station

Patuxent River Co: MD 20670-

Landholding Agency: Navy

Property Number: 77199940023

Status: Unutilized

Reason: Secured Area

Land—5000 sq. ft.

Naval Air Station

Patuxent River Co: MD 20670-1603

Landholding Agency: Navy

Property Number: 77200010023

Status: Unutilized

Reason: Secured Area

Michigan

Middle Marker Facility

Yipsilanti Co: Washtenaw MI 48198-

Location: 549 ft. north of intersection of Coolidge and Bradley Ave. on East side of street

Landholding Agency: DOT

Property Number: 87199120006

Status: Unutilized

Reason: Within airport runway clear zone

North Carolina

0.85 parcel of land

Marine Corps Air Station, Cherry Point

Havelock Co: Craven NC 28533-

Landholding Agency: Navy

Property Number: 77199740074

Status: Unutilized

Reason: Secured Area

5 (0.91) Parcels

Marine Corps Base

Camp Lejeune Co: NC

Landholding Agency: Navy

Property Number: 77200210080

Status: Underutilized

Reason: Secured Area

3 (0.91) Parcels

Marine Corps Base

Greater Sandy Run

Camp Lejeune Co: NC

Landholding Agency: Navy

Property Number: 77200210081

Status: Underutilized

Reasons: Within airport runway clear zone; Secured Area

Virginia

1.6 acres

Naval Amphibious Base

Norfolk Co: VA 23521-2616

Landholding Agency: Navy

Property Number: 77200240063

Status: Unutilized

Reason: Secured Area

Washington

Land-Port Hadlock Detachment

Naval Ordnance Center Pacific Division

Port Hadlock Co: Jefferson WA 98339-

Landholding Agency: Navy

Property Number: 77199640019

Status: Underutilized

Reasons: Within 2000 ft. of flammable or explosive material; Secured Area

[FR Doc. 03-4160 Filed 2-21-03; 8:45 am]

BILLING CODE 4210-29-P